DEPARTMENT OF TRANSPORTATION

Office of the Secretary

14 CFR Chs. I-III

23 CFR Chs. I-III

33 CFR Chs. I and IV

46 CFR Chs. I-III

48 CFR Ch. 12

49 CFR Subtitle A, Chs. I-VI, and Chs. X-XII

[DOT-OST-1999-5129]

Department Regulatory and Deregulatory Agenda; Semiannual Summary

AGENCY: Office of the Secretary, DOT.

ACTION: Unified Agenda of Federal Regulatory and Deregulatory Actions (Regulatory Agenda).

SUMMARY: The Regulatory and Deregulatory Agenda is a semiannual summary of all current and projected rulemakings, reviews of existing regulations, and completed actions of the Department. The intent of the Agenda is to provide the public with information about the Department of Transportation's regulatory activity planned for the next 12 months. It is expected that this information will enable the public to more effectively participate in the Department's regulatory process. The public is also invited to submit comments on any aspect of this Agenda.

FOR FURTHER INFORMATION CONTACT:

General

You should direct all comments and inquiries on the Agenda in general to Jonathan Moss, Assistant General Counsel for Regulation, Office of General Counsel, Department of Transportation, 1200 New Jersey Avenue SE, Washington, DC 20590; (202) 366-4723.

Specific

You should direct all comments and inquiries on particular items in the Agenda to the individual listed for the regulation or the general rulemaking contact person for the operating administration in appendix B.

Table of Contents

Supplementary Information

Background

Significant/Priority Rulemakings

Explanation of Information on the Agenda

Request for Comments

Purpose

Appendix A—Instructions for Obtaining Copies of Regulatory Documents

Appendix B—General Rulemaking Contact Persons

Appendix C—Public Rulemaking Dockets

Appendix D—Review Plans for Section 610 and Other Requirements

SUPPLEMENTARY INFORMATION:

Background

A primary goal of the Department of Transportation (Department or DOT) is to allow the public to understand how we make decisions, which necessarily includes being transparent in the way we measure the risks, costs, and benefits of engaging in—or deciding not to engage in—a particular regulatory action. As such, it is our policy to provide an opportunity for public comment on such actions to all interested stakeholders. Above all, transparency and meaningful engagement mandate that regulations should be straightforward, clear, and accessible to any interested stakeholder. The Department also embraces the notion that there should be no more regulations than necessary. We emphasize consideration of non-regulatory solutions and have rigorous processes in place for continual reassessment of existing regulations. These processes provide that regulations and other agency actions are periodically reviewed and, if appropriate, are revised to ensure that they continue to meet the needs for which they were originally designed, and that they remain cost-effective and cost-justified.

To help the Department achieve its goals and in accordance with Executive Order (E.O.) 12866, “Regulatory Planning and Review,” (58 FR 51735; Oct. 4, 1993) and the Department's Regulatory Policies and Procedures (44 FR 11034; Feb. 26, 1979), the Department prepares a semiannual regulatory and deregulatory agenda. It summarizes all current and projected rulemakings, reviews of existing regulations, and completed actions of the Department. These are matters on which action has begun or is projected during the next 12 months or for which action has been completed since the last Agenda.

In addition, this Agenda was prepared in accordance with three new Executive orders issued by President Trump, which directed agencies to further scrutinize their regulations and other agency actions. On January 30, 2017, President Trump signed Executive Order 13771, Reducing Regulation and Controlling Regulatory Costs. Under Section 2(a) of the Executive order, unless prohibited by law, whenever an executive department or agency publicly proposes for notice and comment or otherwise promulgates a new regulation, it must identify at least two existing regulations to be repealed. On February 24, 2017, President Trump signed Executive Order 13777, Enforcing the Regulatory Reform Agenda. Under this Executive order, each agency must establish a Regulatory Reform Task Force (RRTF) to evaluate existing regulations, and make recommendations for their repeal, replacement, or modification. On March 28, 2017, President Trump signed Executive Order 13783, Promoting Energy Independence and Economic Growth, requiring agencies to review all existing regulations, orders, guidance documents, policies, and other similar agency actions that potentially burden the development or use of domestically produced energy resources, with particular attention to oil, natural gas, coal, and nuclear energy resources.

In response to the mandate in Executive Order 13777, the Department formed an RRTF consisting of senior career and non-career leaders, which has already conducted extensive reviews of existing regulations, and identified a number of rules to be repealed, replaced, or modified. While each regulatory and deregulatory action is evaluated on its own merits, the RRTF augments the Department's consideration of prospective rulemakings by conducting monthly reviews across all OAs to identify appropriate deregulatory actions. The RRTF also works to ensure that any new regulatory action is rigorously vetted and non-regulatory alternatives are considered. Further information on the RRTF can be found online at: https://www.transportation.gov/regulations/regulatory-reform-task-force-report.

The Department's ongoing regulatory effort is guided by four fundamental principles—safety, innovation, enabling investment in infrastructure, and reducing unnecessary regulatory burdens. These priorities are grounded in our national interest in maintaining U.S. global leadership in safety, innovation, and economic growth. To accomplish our regulatory goals, we must create a regulatory environment that fosters growth in new and innovative industries without burdening them with unnecessary restrictions. At the same time, safety remains our highest priority; we must remain focused on managing safety risks and being sure that we do not regress from the successes already achieved. Our planned regulatory actions reflect a careful balance that emphasizes the Department's priority in fostering innovation while at the same time meeting the challenges of maintaining a safe, reliable, and sustainable transportation system.

For example, the National Highway Traffic Safety Administration (NHTSA) is working on reducing regulatory barriers to technology innovation, including the development of autonomous vehicles. Autonomous vehicles are expected to increase safety significantly by reducing the likelihood of human error when driving, which today accounts for the overwhelming majority of accidents on our nation's roadways. NHTSA plans to issue rulemakings that; (1) define a pilot program of limited duration for vehicles that may not meet FMVSS; (2) allow for permanent updates to current FMVSS reflecting new technology; and (3) allow for updates to NHTSA's regulations outlining the administrative processes for petitioning the agency for exemptions, rulemakings, and reconsiderations.

Similarly, the Federal Aviation Administration (FAA) is working to enable, safely and efficiently, the integration of unmanned aircraft systems (UAS) into the National Airspace System. UAS are expected to continue to drive innovation and increase safety as operators and manufacturers find new and inventive uses for UAS. For instance, UAS are poised to assist human operators with a number of different mission sets such as inspection of critical infrastructure and search and rescue, enabling beneficial and lifesaving activities that would otherwise be difficult or even impossible for a human to accomplish unassisted. The Department has regulatory efforts underway to further integrate UAS safely and efficiently.

The Department is also currently working on several rulemakings to facilitate a major transformation of our national space program from one in which the federal government has a primary role to one in which private industry drives growth in innovation and launches. Specifically, the Department is working on rules to: (1) Clarify, streamline, and update FAA's commercial space transportation regulations; (2) provide operators flexibility for protecting ships from a nearby commercial space launch or reentry; (3) streamline and improve FAA's commercial space transportation rulemaking and petition procedures; and (4) codify certain statutory requirements, increasing clarity for industry.

Explanation of Information in the Agenda

An Office of Management and Budget memorandum, dated January 29, 2018, establishes the format for this Agenda.

First, the Agenda is divided by initiating offices. Then the Agenda is divided into five categories: (1) Prerule stage; (2) proposed rule stage; (3) final rule stage; (4) long-term actions; and (5) completed actions. For each entry, the Agenda provides the following information: (1) Its “significance”; (2) a short, descriptive title; (3) its legal basis; (4) the related regulatory citation in the Code of Federal Regulations; (5) any legal deadline and, if so, for what action (e.g., NPRM, final rule); (6) an abstract; (7) a timetable, including the earliest expected date for when a rulemaking document may publish; (8) whether the rulemaking will affect small entities and/or levels of Government and, if so, which categories; (9) whether a Regulatory Flexibility Act (RFA) analysis is required (for rules that would have a significant economic impact on a substantial number of small entities); (10) a listing of any analyses an office will prepare or has prepared for the action (with minor exceptions, DOT requires an economic analysis for all its rulemakings); (11) an agency contact office or official who can provide further information; (12) a Regulation Identifier Number (RIN) assigned to identify an individual rulemaking in the Agenda and facilitate tracing further action on the issue; (13) whether the action is subject to the Unfunded Mandates Reform Act; (14) whether the action is subject to the Energy Act; (15) the action's designation under Executive Order 13771 explaining whether the action will have a regulatory or deregulatory effect; and (16) whether the action is major under the congressional review provisions of the Small Business Regulatory Enforcement Fairness Act.

For nonsignificant regulations issued routinely and frequently as a part of an established body of technical requirements (such as the Federal Aviation Administration's Airspace Rules), to keep those requirements operationally current, we only include the general category of the regulations, the identity of a contact office or official, and an indication of the expected number of regulations; we do not list individual regulations.

In the “Timetable” column, we use abbreviations to indicate the particular documents being considered. ANPRM stands for Advance Notice of Proposed Rulemaking, SNPRM for Supplemental Notice of Proposed Rulemaking, and NPRM for Notice of Proposed Rulemaking. Listing a future date in this column does not mean we have made a decision to issue a document; it is the earliest date on which a rulemaking document may publish. In addition, these dates are based on current schedules. Information received after the issuance of this Agenda could result in a decision not to take regulatory action or in changes to proposed publication dates. For example, the need for further evaluation could result in a later publication date; evidence of a greater need for the regulation could result in an earlier publication date.

Finally, a dot (•) preceding an entry indicates that the entry appears in the Agenda for the first time.

The internet is the basic means for disseminating the Unified Agenda. The complete Unified Agenda is available online at www.reginfo.gov in a format that offers users a greatly enhanced ability to obtain information from the Agenda database. A portion of the Agenda is published in the Federal Register, however, because the Regulatory Flexibility Act (5 U.S.C. 602) mandates publication for the regulatory flexibility agenda. Accordingly, DOT's printed Agenda entries include only:

1. The agency's Agenda preamble;

2. Rules that are in the agency's regulatory flexibility agenda, in accordance with the Regulatory Flexibility Act, because they are likely to have a significant economic impact on a substantial number of small entities; and

3. Any rules that the agency has identified for periodic review under section 610 of the Regulatory Flexibility Act.

Printing of these entries is limited to fields that contain information required by the Regulatory Flexibility Act's Agenda requirements. These elements are: Sequence Number; Title; Section 610 Review, if applicable; Legal Authority; Abstract; Timetable; Regulatory Flexibility Analysis Required; Agency Contact; and Regulation Identifier Number (RIN). Additional information (for detailed list, see section heading “Explanation of Information on the Agenda”) on these entries is available in the Unified Agenda published on the internet.

Request for Comments

General

Our Agenda is intended primarily for the use of the public. Since its inception, we have made modifications and refinements that we believe provide the public with more helpful information, as well as making the Agenda easier to use. We would like you, the public, to make suggestions or comments on how the Agenda could be further improved.

Reviews

We also seek your suggestions on which of our existing regulations you believe need to be reviewed to determine whether they should be revised or revoked. We particularly draw your attention to the Department's review plan in appendix D.

Regulatory Flexibility Act

The Department is especially interested in obtaining information on requirements that have a “significant economic impact on a substantial number of small entities” and, therefore, must be reviewed under the Regulatory Flexibility Act. If you have any suggested regulations, please submit them to us, along with your explanation of why they should be reviewed.

In accordance with the Regulatory Flexibility Act, comments are specifically invited on regulations that we have targeted for review under section 610 of the Act. The phrase (sec. 610 Review) appears at the end of the title for these reviews. Please see appendix D for the Department's section 610 review plans.

Consultation With State, Local, and Tribal Governments

Executive Orders 13132 and 13175 require us to develop an account process to ensure “meaningful and timely input” by State, local, and tribal officials in the development of regulatory policies that have federalism or tribal implications. These policies are defined in the Executive orders to include regulations that have “substantial direct effects” on States or Indian tribes, on the relationship between the Federal Government and them, or on the distribution of power and responsibilities between the Federal Government and various levels of Government or Indian tribes. Therefore, we encourage State and local Governments or Indian tribes to provide us with information about how the Department's rulemakings impact them.

Purpose

The Department is publishing this regulatory Agenda in the Federal Register to share with interested members of the public the Department's preliminary expectations regarding its future regulatory actions. This should enable the public to be more aware of the Department's regulatory activity and should result in more effective public participation. This publication in the Federal Register does not impose any binding obligation on the Department or any of the offices within the Department with regard to any specific item on the Agenda. Regulatory action, in addition to the items listed, is not precluded.

Dated: February 22, 2018.
Elaine L. Chao,
Secretary of Transportation.

Appendix A—Instructions for Obtaining Copies of Regulatory Documents

To obtain a copy of a specific regulatory document in the Agenda, you should communicate directly with the contact person listed with the regulation at the address below. We note that most, if not all, such documents, including the Semiannual Regulatory Agenda, are available through the internet at http://www.regulations.gov. See appendix C for more information.

Appendix B—General Rulemaking Contact Persons

The following is a list of persons who can be contacted within the Department for general information concerning the rulemaking process within the various operating administrations.

FAA—Lirio Liu, Director, Office of Rulemaking, 800 Independence Avenue SW, Washington, DC 20591; telephone (202) 267-7833.

FHWA—Jennifer Outhouse, Office of Chief Counsel, 1200 New Jersey Avenue SE, Washington, DC 20590; telephone (202) 366-0761.

FMCSA—Steven J. LaFreniere, Regulatory Ombudsman, 1200 New Jersey Avenue SE, Washington, DC 20590; telephone (202) 366-0596.

NHTSA—Steve Wood, Office of Chief Counsel, 1200 New Jersey Avenue SE, Washington, DC 20590; telephone (202) 366-2992.

FRA—Kathryn Gresham, Office of Chief Counsel, 1200 New Jersey Avenue SE, Washington, DC 20590; telephone (202) 493-6063.

FTA—Chaya Koffman, Office of Chief Counsel, 1200 New Jersey Avenue SE, Washington, DC 20590; telephone (202) 366-3101.

SLSDC—Carrie Mann Lavigne, Chief Counsel, 180 Andrews Street, Massena, NY 13662; telephone (315) 764-3200.

PHMSA—Stephen Gordon, Office of Chief Counsel, 1200 New Jersey Avenue SE, Washington, DC 20590; telephone (202) 366-1101.

MARAD—Gabriel Chavez, Office of Chief Counsel, Maritime Administration, 1200 New Jersey Avenue SE, Washington, DC 20590; telephone (202) 366-2621.

OST—Jonathan Moss, Assistant General Counsel for Regulation, 1200 New Jersey Avenue SE, Washington, DC 20590; telephone (202) 366-4723.

Appendix C—Public Rulemaking Dockets

All comments via the internet are submitted through the Federal Docket Management System (FDMS) at the following address: http://www.regulations.gov. The FDMS allows the public to search, view, download, and comment on all Federal agency rulemaking documents in one central online system. The above referenced internet address also allows the public to sign up to receive notification when certain documents are placed in the dockets.

The public also may review regulatory dockets at or deliver comments on proposed rulemakings to the Dockets Office at 1200 New Jersey Avenue SE, Room W12-140, Washington, DC 20590, 1-800-647-5527. Working Hours: 9:00 a.m. to 5:00 p.m.

Appendix D—Review Plans for Section 610 and Other Requirements

Part I—The Plan

General

The Department of Transportation has long recognized the importance of regularly reviewing its existing regulations to determine whether they need to be revised or revoked. Our Regulatory Policies and Procedures require such reviews. We also have responsibilities under Executive Order 12866, “Regulatory Planning and Review,” Executive Order 13563, “Improving Regulation and Regulatory Review,” 76 FR 3821 (January 18, 2011), Executive Order 13771 “Reducing Regulation and Controlling Regulatory Costs,” Executive Order 13777, “Enforcing the Regulatory Agenda,” and section 610 of the Regulatory Flexibility Act to conduct such reviews. This includes the designation of a Regulatory Reform Officer, the establishment of a Regulatory Reform Task Force, and the use of plain language techniques in new rules and considering its use in existing rules when we have the opportunity and resources to revise them. We are committed to continuing our reviews of existing rules and, if it is needed, will initiate rulemaking actions based on these reviews. The Department will begin a new 10-year review cycle with the Fall 2018 Agenda.

Section 610 Review Plan

Section 610 requires that we conduct reviews of rules that: (1) Have been published within the last 10 years; and (2) have a “significant economic impact on a substantial number of small entities” (SEISNOSE). It also requires that we publish in the Federal Register each year a list of any such rules that we will review during the next year. The Office of the Secretary and each of the Department's Operating Administrations have a 10-year review plan. These reviews comply with section 610 of the Regulatory Flexibility Act.

Changes to the Review Plan

Some reviews may be conducted earlier than scheduled. For example, to the extent resources permit, the plain language reviews will be conducted more quickly. Other events, such as accidents, may result in the need to conduct earlier reviews of some rules. Other factors may also result in the need to make changes; for example, we may make changes in response to public comment on this plan or in response to a presidentially mandated review. If there is any change to the review plan, we will note the change in the following Agenda. For any section 610 review, we will provide the required notice prior to the review.

Part II—The Review Process

The Analysis

Generally, the agencies have divided their rules into 10 different groups and plan to analyze one group each year. For purposes of these reviews, a year will coincide with the fall-to-fall schedule for publication of the Agenda. Most agencies provide historical information about the reviews that have occurred over the past 10 years. Thus, Year 1 (2008) begins in the fall of 2008 and ends in the fall of 2009; Year 2 (2009) begins in the fall of 2009 and ends in the fall of 2010, and so on. The exception to this general rule is the FAA, which provides information about the reviews it completed for this year and prospective information about the reviews it intends to complete in the next 10 years. Thus, for FAA Year 1 (2017) begins in the fall of 2017 and ends in the fall of 2018; Year 2 (2018) begins in the fall of 2018 and ends in the fall of 2019, and so on. We request public comment on the timing of the reviews. For example, is there a reason for scheduling an analysis and review for a particular rule earlier than we have? Any comments concerning the plan or particular analyses should be submitted to the regulatory contacts listed in appendix B, General Rulemaking Contact Persons.

Section 610 Review

The agency will analyze each of the rules in a given year's group to determine whether any rule has a SEISNOSE and, thus, requires review in accordance with section 610 of the Regulatory Flexibility Act. The level of analysis will, of course, depend on the nature of the rule and its applicability. Publication of agencies' section 610 analyses listed each fall in this Agenda provides the public with notice and an opportunity to comment consistent with the requirements of the Regulatory Flexibility Act. We request that public comments be submitted to us early in the analysis year concerning the small entity impact of the rules to help us in making our determinations.

In each fall Agenda, the agency will publish the results of the analyses it has completed during the previous year. For rules that had a negative finding on SEISNOSE, we will give a short explanation (e.g., “these rules only establish petition processes that have no cost impact” or “these rules do not apply to any small entities”). For parts, subparts, or other discrete sections of rules that do have a SEISNOSE, we will announce that we will be conducting a formal section 610 review during the following 12 months. At this stage, we will add an entry to the Agenda in the pre-rulemaking section describing the review in more detail. We also will seek public comment on how best to lessen the impact of these rules and provide a name or docket to which public comments can be submitted. In some cases, the section 610 review may be part of another unrelated review of the rule. In such a case, we plan to clearly indicate which parts of the review are being conducted under section 610.

Other Reviews

The agency will also examine the specified rules to determine whether any other reasons exist for revising or revoking the rule or for rewriting the rule in plain language. In each fall Agenda, the agency will also publish information on the results of the examinations completed during the previous year.

Part III—List of Pending Section 610 Reviews

The Agenda identifies the pending DOT section 610 Reviews by inserting “(Section 610 Review)” after the title for the specific entry. For further information on the pending reviews, see the Agenda entries at www.reginfo.gov. For example, to obtain a list of all entries that are in section 610 Reviews under the Regulatory Flexibility Act, a user would select the desired responses on the search screen (by selecting “advanced search”) and, in effect, generate the desired “index” of reviews.

Office of the Secretary

Section 610 and Other Reviews

Year | Regulations to be reviewed | Analysis year | Review year
1 | 49 CFR parts 91 through 99 and 14 CFR parts 200 through 212 | 2008 | 2009
2 | 48 CFR parts 1201 through 1253 and new parts and subparts | 2009 | 2010
3 | 14 CFR parts 213 through 232 | 2010 | 2011
4 | 14 CFR parts 234 through 254 | 2011 | 2012
5 | 14 CFR parts 255 through 298 and 49 CFR part 40 | 2012 | 2013
6 | 14 CFR parts 300 through 373 | 2013 | 2014
7 | 14 CFR parts 374 through 398 | 2014 | 2015
8 | 14 CFR part 399 and 49 CFR parts 1 through 11 | 2015 | 2016
9 | 49 CFR parts 17 through 28 | 2016 | 2017
10 | 49 CFR parts 29 through 39 and parts 41 through 89 | 2017 | 2018

Year 10 (2017) List of Rules That Will Be Analyzed During the Next Year

49 CFR part 30—Denial of Public Works Contracts to Suppliers of Goods and Services of Countries That Deny Procurement Market Access to U.S. Contractors

49 CFR part 31—Program Fraud Civil Remedies

49 CFR part 32—Governmentwide Requirements for Drug-Free Workplace (Financial Assistance)

49 CFR part 33—Transportation Priorities and Allocation System

49 CFR part 37—Transportation Services for Individuals With Disabilities (ADA)

49 CFR part 38—Americans With Disabilities Act (ADA) Accessibility Specifications for Transportation Vehicles

49 CFR part 39—Transportation for Individuals With Disabilities: Passenger Vessels

49 CFR part 41—Seismic Safety

49 CFR part 71—Standard Time Zone Boundaries

49 CFR part 79—Medals of Honor

49 CFR part 80—Credit Assistance for Surface Transportation Projects

49 CFR part 89—Implementation of Federal Claims Collection Act

Year 9 (2016) List of Rules Analyzed and a Summary of Results

49 CFR part 17—Intergovernmental Review of Department of Transportation Programs and Activities

• Section 610: No SEISNOSE. This rule, which implements a 1982 Executive order, is based on an OMB model rule. It establishes procedures to ensure that DOT agency actions are appropriately coordinated with state and local governments. It imposes no burdens on State and local governments of whatever size, and the coordination of various policies or projects could help to reduce burdens on small units of government.

• General: There is no current need to revise this rule. Any future revision would have to be Governmentwide. OST's plain language review of this rule indicates the part does not need a substantial revision.

49 CFR part 20—New Restrictions on Lobbying

• Section 610: OST conducted a Section 610 review of this part and found no SEISNOSE

• General: During its review of part OST has concluded that this part needs to update definitions and subsections on compilation of semi-annual certifications. OST's plain language review of this rule indicates the part does not need a substantial revision.

49 CFR part 21—Nondiscrimination in Federally-Assisted Programs of the Department of Transportation Effectuation of Title VI of the Civil Rights Act 1964

• Section 610: OST conducted a Section 610 review of this part and found no SEISNOSE

• General: During its review of part OST has concluded that this part needs to be updated to reflect changes to listed authorities and to DOT's structure and organization. OST's plain language review of this rule indicates the part does not need a substantial revision.

49 CFR part 22—Short-Term Lending Program (STLP)

• Section 610: OST conducted a Section 610 review of this part and found no SEISNOSE

• General: During its review of part OST has concluded that further analysis is needed to determine the applicability of this part. Once determined, OST may initiate a rulemaking to remove these regulations. OST's plain language review of this rule indicates the part does not need a substantial revision.

49 CFR part 23—Participation of Disadvantaged Business Enterprise in Airport Concessions

• Section 610: OST conducted a Section 610 review of this part and found no SEISNOSE

• General: During its review of part OST has concluded that this part needs to updated to reflect adjustments in business size standards, personal net worth ceilings, updates to instructions, definitions of several terms, good faith efforts by car rental companies, inclusion of a section on joint ventures, accurate listing of firms in UCP directories, and goal setting requirements, among other things. OST's plain language review indicates no need for substantial revision.

49 CFR part 24—Uniform Relocation Assistance and Real Property Acquisition for Federal and Federally Assisted Programs

• Section 610: OST conducted a Section 610 review of this part and found no SEISNOSE

• General: Updating these regulations are statutorily required and require interagency coordination. OST would initiate a rulemaking to updates these regulations. OST's plain language review of this rule indicates the part does not need a substantial revision.

49 CFR part 25—Nondiscrimination on The Basis of Sex In Education Programs Or Activities Receiving Federal Financial Assistance

• Section 610: OST conducted a Section 610 review of this part and found no SEISNOSE

• General: During its review of part OST has concluded that this part needs to be updated to reflect changes to several noted legal authorities and to DOT's structure and organization. OST may initiate a rulemaking in the future to make these updates. OST's plain language review of this rule indicates the part does not need a substantial revision.

49 CFR part 26—Participation by Disadvantaged Business Enterprises In Department of Transportation Financial Assistance Programs

• Section 610: OST conducted a Section 610 review of this part and found no SEISNOSE

• General: During its review of part OST has concluded that this part needs to be updated in the following areas: Errors in regulatory provisions; removal of provisions that are routinely misunderstood by UCPs and recipients; various technical corrections; increased goal-setting threshold; addressing design-build agreements; and recipient failure to meet overall goals. OST may initiate a rulemaking in the future to make these updates. OST's plain language review of this rule indicates the part does not need a substantial revision.

49 CFR part 27—Nondiscrimination on The Basis of Disability In Programs Or Activities Receiving Federal Financial Assistance

• Section 610: OST conducted a Section 610 review of this part and found no SEISNOSE

• General: During its review of part OST has concluded that this part needs to be updated to change obsolete language, reflect changes to several noted legal authorities, and to reflect changes to the American with Disabilities Act (ADA) Amendments Act, Public Law 110-325 (2008). OST may initiate a rulemaking in the future to make these updates. OST's plain language review of this rule indicates the part does not need a substantial revision.

49 CFR part 28—Enforcement of Nondiscrimination on The Basis of Handicap In Programs or Activities Conducted by the Department of Transportation

• Section 610: OST conducted a Section 610 review of this part and found no SEISNOSE

• General: During its review of part OST has concluded that this part needs to be updated to change obsolete language, reflect changes to several noted legal authorities, and to reflect changes to the American with Disabilities Act (ADA) Amendments Act, Public Law 110-325 (2008). OST may initiate a rulemaking in the future to make these updates. OST's plain language review of this rule indicates the part does not need a substantial revision.

Year 8 (2015) List of Rules Analyzed and a Summary of Results

14 CFR part 399—Statements of General Policy

• Section 610: OST conducted a Section 610 review of this part and found no SEISNOSE.

• General: Since this rule was enacted, the Federal Aviation Act was revised and recodified within subtitle VII of Title 49 of the United States Code (Pub. L. 103-272, July 5, 1994). Since the recodification, the Department has made numerous amendments to make the CFR consistent with the provisions of the current statute (49 U.S.C., Subtitle VII). As a result, OST will be conducting a rulemaking to update the economic regulations by modifying language to reflect current statutory provisions. See RIN 2105-AD86. OST's plain language review indicates no need for substantial revision on that basis.

49 CFR part 1—Organization and Delegation of Power and Duties

• Section 610: OST conducted a review of this part and found no SEISNOSE.

• General: OST reviewed these regulations and found that the part needs to be updated to reflect changes made in the Fixing America's Surface Transportation (FAST) Act, Public Law 114-94 (2015). OST may initiate a rulemaking in the future to make these updates. OST's plain language review of these rules indicates no need for substantial revision.

49 CFR part 3—Official Seal

• Section 610: OST conducted a review of this part and found no SEISNOSE.

• General: OST has reviewed these regulations and found that the part needs to be updated to reduce costs and ensure the regulations accurately describe the actual design of the seal. OST may initiate a rulemaking in the future to make these updates. OST's plain language review of these rules indicates no need for substantial revision.

49 CFR part 5—Rulemaking Procedures

• Section 610: OST conducted a review of this part and found no SEISNOSE.

• General: OST has reviewed these regulations and found that the part needs to be updated to reflect current Departmental procedures. OST may initiate a rulemaking for these purposes. OST's plain language review of the rule indicates a potential need for revision.

49 CFR part 6—Implementation of Equal Access to Justice Act in Agency Proceedings

• Section 610: OST conducted a review of this part and found no SEISNOSE.

• General: OST has reviewed these regulations and found that the part needs to be updated to reflect the current content of the relevant statute. OST may initiate a rulemaking for these purposes. OST's plain language review of the rule indicates a potential need for revision.

49 CFR part 7—Public Availability of Information

• Section 610: OST conducted a review of this part and found no SEISNOSE.

• General: OST has reviewed these regulations and recently updated this part to reflect recent statutory changes to the Freedom of Information Act (82 FR 21139, May 5, 2017). OST's plain language review indicates no need for revision.

49 CFR part 8—Classified Information: Classification/Declassification/Access

• Section 610: OST conducted a Section 610 review of this part and found no SEISNOSE.

• General: OST has reviewed these regulations and recently updated this part to reflect organization changes and updates to the legal authorities and references (82 FR 40076, July 15, 2016). OST's plain language review indicates no need for further revision at this time.

49 CFR part 9—Testimony of Employees of the Department and Production of Records in Legal Proceedings

• Section 610: OST conducted a review of this part and found no SEISNOSE.

• General: OST has reviewed these regulations and found that the part needs to be updated to reflect organizational and other changes since the last publication of the part. OST may initiate a rulemaking for these purposes. OST's plain language review of the rule indicates a potential need for revision.

49 CFR part 10—Maintenance of and Access to Records Pertaining to Individuals

• Section 610: OST conducted a review of this part and found no SEISNOSE.

• General: OST has reviewed these regulations and found that the part needs to be updated to reflect organizational and statutory changes since the last publication of this rule. OST has initiated a rulemaking for these purposes. OST's plain language review of this rule indicates a need for revision.

49 CFR part 11—Protection of Human Subjects

• Section 610: OST conducted a Section 610 review of this part and found no SEISNOSE.

• General: No changes are needed at this time. OST reviewed these regulations and participated in a joint update to the Common Rule, in coordination with the U.S. Department of Health and Human Services, published at 82 FR 7149 (January 19, 2017). These regulations are cost effective and impose the least burden on the industries DOT regulates. OST's plain language review of these rules indicates no need for substantial revision.

49 CFR part 15—Protection of Sensitive Security Information

• Section 610: OST conducted a Section 610 review of this part and found no SEISNOSE.

• General: When this rule was enacted, it paralleled 49 CFR part 1520, which creates an analogous Sensitive Security Information regime administered by the Transportation Security Administration (TSA). Since that time, parts 15 and 1520 have diverged due to the two agencies not coordinating amendments to the rules. OST and TSA are completing a rulemaking to eliminate inconsistencies between the two rules. See RIN 2105-AD59. OST's plain language review indicates no need for substantial revision on that basis.

Year 7 (2014) List of Rules Analyzed and Summary of Results

14 CFR part 374—Implementation of the Consumer Credit Protection Act with Respect to Air Carriers and Foreign Air Carriers

• Section 610: OST conducted a Section 610 review of this part and found no SEISNOSE.

• General: The reviews performed for the Aviation Clean-up Rule (RIN 2105-AD86) revealed general updates are needed. All changes are incorporated into this rule. OST's plain language review indicated no need for substantial revision on that basis.

14 CFR part 374a—Extension of Credit by Airlines to Federal Political Candidates

• Section 610: OST conducted a Section 610 review of this part and found no SEISNOSE.

• General: The reviews performed for the Aviation Clean-up Rule (RIN 2105-AD86) revealed general updates are needed. All changes are incorporated into this rule. OST's plain language review indicated no need. All changes are incorporated into this rule. OST's plain language review indicated no need for substantial revision on that basis.

14 CFR part 375—Navigation of Foreign Civil Aircraft within the United States

• Section 610: OST conducted a section 610 review of this part and found no SEISNOSE.

• General: Since this rule was enacted, the Federal Aviation Act was revised and recodified within subtitle VII of title 49 of the United States Code (Pub. L. 103-272, July 5, 1994). Since the codification, the Department has made numerous amendments to make the CFR consistent with the provisions of the current statute (49 U.S.C., subtitle VII). As a result, OST will be conducting a rulemaking to update the economic regulations by modifying language to reflect current statutory provisions. See RIN 2105-AD86. OST's plain language review indicates no need for substantial revision on that basis.

14 CFR part 377—Continuance of Expired Authorizations by Operation of Law Pending Final Determination of Applications for Renewal Thereof

• Section 610: OST conducted a section 610 review of this part and found no SEISNOSE.

• General: Since this rule was enacted, the Federal Aviation Act was revised and recodified within subtitle VII of title 49 of the United States Code (Pub. L. 103-272, July 5, 1994). Since the codification, the Department has made numerous amendments to make the CFR consistent with the provisions of the current statute (49 U.S.C., Subtitle VII). As a result, OST will be conducting a rulemaking to update the economic regulations by modifying language to reflect current statutory provisions. See RIN 2105-AD86. OST's plain language review indicates no need for substantial revision on that basis.

14 CFR part 380—Public Charters

• Section 610: OST conducted a Section 610 review of this part and found no SEISNOSE.

• General: Since this rule was enacted, the Federal Aviation Act was revised and recodified within subtitle VII of title 49 of the United States Code (Pub. L. 103-272, July 5, 1994). Since the codification, the Department has made numerous amendments to make the CFR consistent with the provisions of the current statute (49 U.S.C., subtitle VII). As a result, OST will be conducting a rulemaking to update the economic regulations by modifying language to reflect current statutory provisions. See RIN 2105-AD86. OST's plain language review indicates no need for substantial revision on that basis.

14 CFR part 381—Special Event Tours

• Section 610: OST conducted a section 610 review of this part and found no SEISNOSE

• General: No changes are needed. This regulation is cost effective and imposes the least burden. OST's plain language review of this rule indicates no need for substantial revision.

14 CFR part 382—Nondiscrimination on The Basis Of Disability in Air Travel

• Section 610: OST conducted a section 610 review of this part and found no SEISNOSE.

• General: Part 382 implements the Air Carrier Access Act (49 U.S.C. 41705), which broadly prohibits discrimination against a qualified individual with a disability in air transportation. OST's review of part 382 revealed a number of areas that could benefit from clarification by rulemaking, including: Deleting compliance dates that have passed and are no longer relevant; removal of antiquated conflict of laws waiver request filing requirements; clarification of assertion of defense to enforcement action when conflict of law waiver request is filed; clarification of medical certificate requirements; reordering of certain sections; clarifying that subpart G requires prompt boarding deplaning and connecting assistance; clarification of requirements regarding baggage containing assistive devices; handling of complaints received via social media; correction of typos; and certain citation corrections. OST's plain language review indicates no need for substantial revision on that basis.

14 CFR part 383—Civil Penalties

• Section 610: OST conducted a section 610 review of this part and found no SEISNOSE.

• General: In accordance with the Federal Civil Penalties Inflation Adjustment Act Improvements Act of 2015, these regulations would be revised to implement a catch-up adjustment for inflation and the promulgation of a direct final rule to complete the required annual inflation adjustment to the maximum civil penalty amounts for violations of certain aviation economic statutes and the rules and orders issued pursuant to these statutes. OST would also make a technical correction to reflect a listed statutory authority. OST's plain language review of this rule indicates no need for substantial revision.

14 CFR part 389—Fees and Charges for Special Services

• Section 610: OST conducted a section 610 review of this part and found no SEISNOSE.

• General: Since this rule was enacted, the Federal Aviation Act was revised and recodified within subtitle VII of title 49 of the United States Code (Pub. L. 103-272, July 5, 1994). Since the codification, the Department has made numerous amendments to make the CFR consistent with the provisions of the current statute (49 U.S.C., subtitle VII). As a result, OST will be conducting a rulemaking to update the economic regulations by modifying language to reflect current statutory provisions. See RIN 2105-AD86. OST's plain language review indicates no need for substantial revision on that basis.

14 CFR part 398—Guidelines for Individual Determinations of Basic Essential Air Service

• Section 610: OST conducted a Section 610 review of this part and found no SEISNOSE.

• General: Since this rule was enacted, the Federal Aviation Act was revised and recodified within subtitle VII of Title 49 of the United States Code (Pub. L. 103-272, July 5, 1994). Since the codification, the Department has made numerous amendments to make the CFR consistent with the provisions of the current statute (49 U.S.C., Subtitle VII). As a result, OST will be conducting a rulemaking to update the economic regulations by modifying language to reflect current statutory provisions. See RIN 2105-AD86. OST's plain language review indicates no need for substantial revision on that basis.

Year 7 (2014) List of Rules With Ongoing Analysis

14 CFR part 385—Assignments and Review of Action under Assignments

Year 6 (2013) List of Rules Analyzed and a Summary of Results

14 CFR part 300—Rules of Conduct in DOT Proceedings Under This Chapter

• Section 610: OST conducted a Section 610 review of this part and found no SEISNOSE.

• General: Since this rule was enacted, the Federal Aviation Act was revised and recodified within subtitle VII of title 49 of the United States Code (Pub. L. 103-272, July 5, 1994). Since the codification, the Department has made numerous amendments to make the CFR consistent with the provisions of the current statute (49 U.S.C., subtitle VII). As a result, OST will be conducting a rulemaking to update the economic regulations by modifying language to reflect current statutory provisions. See RIN 2105-AD86. OST's plain language review indicates no need for substantial revision on that basis.

14 CFR part 302—Rules of Practice in Proceedings

• Section 610: OST conducted a section 610 review of this part and found no SEISNOSE.

• General: Since this rule was enacted, the Federal Aviation Act was revised and recodified within subtitle VII of title 49 of the United States Code (Pub. L. 103-272, July 5, 1994). Since the codification, the Department has made numerous amendments to make the CFR consistent with the provisions of the current statute (49 U.S.C., subtitle VII). As a result, OST will be conducting a rulemaking to update the economic regulations by modifying language to reflect current statutory provisions. See RIN 2105-AD86. OST's plain language review indicates no need for substantial revision on that basis.

14 CFR part 303—Review of Air Carrier Agreements

• Section 610: OST conducted a section 610 review of this part and found no SEISNOSE.

• General: Since this rule was enacted, the Federal Aviation Act was revised and recodified within subtitle VII of title 49 of the United States Code (Pub. L. 103-272, July 5, 1994). Since the codification, the Department has made numerous amendments to make the CFR consistent with the provisions of the current statute (49 U.S.C., subtitle VII). As a result, OST will be conducting a rulemaking to update the economic regulations by modifying language to reflect current statutory provisions. See RIN 2105-AD86. OST's plain language review indicates no need for substantial revision on that basis.

14 CFR part 305—Rules of Practice in Informal Nonpublic Investigations

• Section 610: OST conducted a section 610 review of this part and found no SEISNOSE.

• General: Section 305 should be updated to reflect current practice regarding procedures such as retention of evidence. The update will be made in a rulemaking addressing other updates to the rules. See RIN 2105-AD86. OST's plain language review indicates no need for substantial revision on that basis.

14 CFR part 313—Implementation of the Energy Policy and Conservation Act

• Section 610: OST conducted a section 610 review of this part and found no SEISNOSE.

• General: These regulations would need to be updated to conform to existing statute. However further analysis is needed because the statute applies only to certain Title 49 actions. OST's plain language review indicates no need for substantial revision on that basis.

14 CFR part 323—Terminations, Suspensions, and Reductions of Service

• Section 610: OST conducted a Section 610 review of this part and found no SEISNOSE.

• General: Since this rule was enacted, the Federal Aviation Act was revised and recodified within subtitle VII of title 49 of the United States Code (Pub. L. 103-272, July 5, 1994). Since the codification, the Department has made numerous amendments to make the CFR consistent with the provisions of the current statute (49 U.S.C., subtitle VII). As a result, OST will be conducting a rulemaking to update the economic regulations by modifying language to reflect current statutory provisions. See RIN 2105-AD86. OST's plain language review indicates no need for substantial revision on that basis.

14 CFR part 325—Essential Air Service Procedures

• Section 610: OST conducted a section 610 review of this part and found no SEISNOSE.

• General: Since this rule was enacted, the Federal Aviation Act was revised and recodified within subtitle VII of title 49 of the United States Code (Pub. L. 103-272, July 5, 1994). Since the codification, the Department has made numerous amendments to make the CFR consistent with the provisions of the current statute (49 U.S.C., subtitle VII). As a result, OST will be conducting a rulemaking to update the economic regulations by modifying language to reflect current statutory provisions. See RIN 2105-AD86. OST's plain language review indicates no need for substantial revision on that basis.

14 CFR part 330—Procedures For Compensation of Air Carriers

• Section 610: OST conducted a section 610 review of this part and found no SEISNOSE.

• General: Part 330 established procedures implementing the airline compensation section of the Air Transportation Safety and System Stabilization Act, which was enacted following the terrorist attacks of September 11, 2001, Public Law 107-42, (Sept. 22, 2001) (the Stabilization Act). Section 103 of the Stabilization Act appropriated up to $5 billion, to be administered by the Department of Transportation, to compensate air carriers for losses they incurred due to the attacks. Part 330 set out carrier eligibility criteria, forms for applying for the compensation payments, details on types of losses that would and would not be eligible for compensation, audit procedures, and details on a set-aside program for certain air taxis, commuter carriers, and other small carriers. Of the 427 applications processed, 407 applicants were deemed eligible under part 330. These carriers received payments in a total amount of $4.6 billion. All eligible appropriations have been completed and payments have now been processed and paid, and all functions and responsibilities under this section have been fulfilled. As a result, part 330 serves no further purpose and should be removed. See RIN 2105-AD86. OST's plain language review indicates no need for substantial revision on that basis.

14 CFR part 372—Overseas Military Personnel Charters

• Section 610: OST conducted a section 610 review of this part and found no SEISNOSE.

• General: OST's general review of the regulations indicates that they may be duplicative of other DOT regulations governing charters. Therefore, OST will conduct a rulemaking to evaluate the necessity of part 372 and to rescind it if necessary. OST's plain language review of these rules indicates no need for substantial revision on that basis.

Year 5 (Fall 2012) List of Rules Analyzed and a Summary of Results

14 CFR part 255—Airline Computer Reservations Systems

• Section 610: OST conducted a section 610 review of this part and found no SEISNOSE.

• General: This provision was promulgated with a termination date of July 31, 2004, unless extended. The rule was not extended; therefore, it is no longer in effect. These regulations were removed in a final rule under RIN-2105-AE11.

14 CFR part 256—Electronic Airline Information Systems

• Section 610: OST conducted a section 610 review of this part and found no SEISNOSE.

• General: No changes needed. This regulation is cost effective and imposes the least burden. OST's plain language review of this rule indicates no need for substantial revision.

14 CFR part 257—Disclosure of Code-Sharing Arrangements and Long Term Wet-Leases

• Section 610: OST conducted a section 610 review of this part and found no SEISNOSE.

• General: Since this rule was enacted, the Federal Aviation Act was revised and recodified within subtitle VII of title 49 of the United States Code (Pub. L. 103-272, July 5, 1994). Since the codification, the Department has made numerous amendments to make the CFR consistent with the provisions of the current statute (49 U.S.C., subtitle VII). As a result, OST will be conducting a rulemaking to update the economic regulations by modifying language to reflect current statutory provisions. See RIN 2105-AD86. OST's plain language review indicates no need for substantial revision on that basis.

14 CFR part 259—Enhanced Protections for Airline Passenger

• Section 610: OST conducted a section 610 review of this part and found no SEISNOSE.

• General: This regulation would need updating to conform to changes made in the FAA Extension, Safety, and Security Act of 2016. OST's plain language review indicates no need for substantial revision.

14 CFR part 271—Guidelines for Subsidizing Air Carriers Providing Essential Air Transportation

• Section 610: OST conducted a section 610 review of this part and found no SEISNOSE.

• General: Since this rule was enacted, the Federal Aviation Act was revised and recodified within subtitle VII of title 49 of the United States Code (Pub. L. 103-272, July 5, 1994). Since the codification, the Department has made numerous amendments to make the CFR consistent with the provisions of the current statute (49 U.S.C., Subtitle VII). As a result, OST will be conducting a rulemaking to update the economic regulations by modifying language to reflect current statutory provisions. See RIN 2105-AD86. OST's plain language review indicates no need for substantial revision on that basis.

14 CFR part 272—Essential Air Service to the Freely Associated States

• Section 610: OST conducted a Section 610 review of this part and found no SEISNOSE.

• General: Part 272 established essential air service procedures for the Freely Associated States comprising the Federated States of Micronesia (Ponape, Truk and Yap), the Marshall Islands (Majuro and Kwajalein), and Koror in Palau. The procedures include requirements for airlines to file notice before suspending service, an obligation to continue to provide service when subsidy is available, and carrier-selection criteria. Section 272.12 states, “These provisions shall terminate on October 1, 1998, unless the essential air service program to the Federated States of Micronesia, the Marshall Islands and Palau is specifically extended by Congress.” Congress did not extend the program (Pub. L. 101-219, sec. 110(b), (Dec.12, 1989)). Thus, the statutory basis for the regulation no longer exists and part 272 should be removed. See RIN 2105-AD86. OST's plain language review indicates no need for substantial revision on that basis.

14 CFR part 291—Cargo Operations in Interstate Air Transportation

• Section 610: OST conducted a section 610 review of this part and found no SEISNOSE.

• General: Since this rule was enacted, the Federal Aviation Act was revised and recodified within subtitle VII of title 49 of the United States Code (Pub. L. 103-272, July 5, 1994). Since the codification, the Department has made numerous amendments to make the CFR consistent with the provisions of the current statute (49 U.S.C., subtitle VII). As a result, OST will be conducting a rulemaking to update the economic regulations by modifying language to reflect current statutory provisions. See RIN 2105-AD86. OST's plain language review indicates no need for substantial revision on that basis.

14 CFR part 293—International Passenger Transportation

• Section 610: OST conducted a section 610 review of this part and found no SEISNOSE

• General: No changes are needed. This regulation is cost effective and imposes the least burden. OST's plain language review of this rule indicates no need for substantial revision.

14 CFR part 294—Canadian Charter Air Taxi Operators

• Section 610: OST conducted a section 610 review of this part and found no SEISNOSE.

• General: Since this rule was enacted, the Federal Aviation Act was revised and recodified within subtitle VII of title 49 of the United States Code (Pub. L. 103-272, July 5, 1994). Since the codification, the Department has made numerous amendments to make the CFR consistent with the provisions of the current statute (49 U.S.C., subtitle VII). As a result, OST will be conducting a rulemaking to update the economic regulations by modifying language to reflect current statutory provisions. See RIN 2105-AD86. OST's plain language review indicates no need for substantial revision on that basis.

14 CFR part 296—Indirect Air Transportation of Property

• Section 610: OST conducted a Section 610 review of this part and found no SEISNOSE.

• General: Since this rule was enacted, the Federal Aviation Act was revised and recodified within subtitle VII of title 49 of the United States Code (Pub. L. 103-272, July 5, 1994). Since the codification, the Department has made numerous amendments to make the CFR consistent with the provisions of the current statute (49 U.S.C., subtitle VII). As a result, OST will be conducting a rulemaking to update the economic regulations by modifying language to reflect current statutory provisions. See RIN 2105-AD86. OST's plain language review indicates no need for substantial revision on that basis.

14 CFR part 297—Foreign Air Freight Forwarders and Foreign Cooperative Shippers Associations

• Section 610: OST conducted a section 610 review of this part and found no SEISNOSE.

• General: Since this rule was enacted, the Federal Aviation Act was revised and recodified within subtitle VII of title 49 of the United States Code (Pub. L. 103-272, July 5, 1994). Since the codification, the Department has made numerous amendments to make the CFR consistent with the provisions of the current statute (49 U.S.C., subtitle VII). As a result, OST will be conducting a rulemaking to update the economic regulations by modifying language to reflect current statutory provisions. See RIN 2105-AD86. OST's plain language review indicates no need for substantial revision on that basis.

14 CFR part 298—Exemptions for Air Taxi and Commuter Air Carrier Operations

• Section 610: OST conducted a section 610 review of this part and found no SEISNOSE.

• General: Since this rule was enacted, the Federal Aviation Act was revised and recodified within subtitle VII of title 49 of the United States Code (Pub. L. 103-272, July 5, 1994). Since the codification, the Department has made numerous amendments to make the CFR consistent with the provisions of the current statute (49 U.S.C., subtitle VII). As a result, OST will be conducting a rulemaking to update the economic regulations by modifying language to reflect current statutory provisions. See RIN 2105-AD86. OST's plain language review indicates no need for substantial revision on that basis.

49 CFR part 40—Procedures for Transportation Workplace Drug and Alcohol Testing Programs

• Section 610: OST conducted a section 610 review of this part and found no SEISNOSE.

• General: The OST review of this regulation indicated a need to harmonize it with the Department of Health and Human Services requirements by adding additional drugs requiring testing. OST's plain language review indicated no need for substantial revision on that basis.

Year 5 (Fall 2012) List of Rules With Ongoing Analysis

14 CFR part 258—Disclosure of Change-of-Gauge Services

14 CFR part 292—International Cargo Transportation

Year 4 (Fall 2011) List of Rules Analyzed and a Summary of Results

14 CFR part 234—Airline Service Quality Performance Reports

• Section 610: OST conducted a section 610 review of this part and found no SEISNOSE.

• General: In December 2016, this part was reviewed as part of the rule for Enhancing Airline Passenger Protections (see RIN 2105-AE11). Also, OST is proposing a rulemaking action under RIN 2105-AE68 addressing how carriers would report cancelled flights that are satisfied by a partner airline. OST's plain language review indicated no need for substantial revision on that basis.

14 CFR part 235—Reports by Air Carriers on the Incidents Involving Animals During Air Transport

• Section 610: OST conducted a section 610 review of this part and found no SEISNOSE

• General: No changes are needed. This regulation is cost effective and imposes the least burden. OST's plain language review of this rule indicates no need for substantial revision.

14 CFR part 240—Inspection of Accounts and Property

• Section 610: OST conducted a section 610 review of this part and found no SEISNOSE.

• General: The review revealed that general updates are needed. All changes are incorporated into the Aviation Clean-up Rule. See RIN 2105-AD86. OST's plain language review indicates no need for substantial revision on that basis.

14 CFR part 241—Uniform System of Accounts and Reports for Large Certificated Air Carriers

• Section 610: OST conducted a section 610 review of this part and found no SEISNOSE.

• General: The reviews performed for the Aviation Clean-up Rule (RIN 2105-AD86) revealed general updates are needed and all changes are incorporated into this rule. OST's plain language review indicated no need for substantial revision on that basis.

14 CFR part 243—Passenger Manifest Information

• Section 610: OST conducted a section 610 review of this part and found no SEISNOSE.

• General: Since this rule was enacted, the Federal Aviation Act was revised and recodified within subtitle VII of title 49 of the United States Code (Pub. L. 103-272, July 5, 1994). Since the codification, the Department has made numerous amendments to make the CFR consistent with the provisions of the current statute (49 U.S.C., subtitle VII). As a result, OST will be conducting a rulemaking to update the economic regulations by modifying language to reflect current statutory provisions. See RIN 2105-AD86. OST's plain language review indicates no need for substantial revision on that basis.

14 CFR part 244—Reporting Tarmac Delay Data

• Section 610: OST conducted a section 610 review of this part and found no SEISNOSE.

• General: OST's review revealed that the language “a tarmac delay of three hours or more,” in section 244.3(a) is inaccurate and was the result of a drafting oversight. The language should be amended to, “a tarmac delay of more than three hours.” Also, there was a field omission regarding the information airlines must include as part of their Form 244 report. Subpart 244.3(a)(18) should be added with the language, “Total length of tarmac delay over three hours.” As a result, OST will be conducting a rulemaking to update the regulation by modifying language. OST's plain language review of these rules indicates no need for substantial revision.

14 CFR part 247—Direct Airport-to-Airport Mileage Records

• Section 610: OST conducted a section 610 review of this part and found no SEISNOSE.

• General: Since this rule was enacted, the Federal Aviation Act was revised and recodified within subtitle VII of title 49 of the United States Code (Pub. L. 103-272, July 5, 1994). Since the codification, the Department has made numerous amendments to make the CFR consistent with the provisions of the current statute (49 U.S.C., subtitle VII). As a result, OST will be conducting a rulemaking to update the economic regulations by modifying language to reflect current statutory provisions. See RIN 2105-AD86. OST's plain language review indicates no need for substantial revision on that basis.

14 CFR part 248—Submission of Audit Reports

• Section 610: OST conducted a section 610 review of this part and found no SEISNOSE.

• General: Since this rule was enacted, the Federal Aviation Act was revised and recodified within subtitle VII of title 49 of the United States Code (Pub. L. 103-272, July 5, 1994). Since the codification, the Department has made numerous amendments to make the CFR consistent with the provisions of the current statute (49 U.S.C., Subtitle VII). As a result, OST will be conducting a rulemaking to update the economic regulations by modifying language to reflect current statutory provisions. See RIN 2105-AD86. OST's plain language review indicates no need for substantial revision on that basis.

14 CFR part 249—Preservation of Air Carrier Records

• Section 610: OST conducted a Section 610 review of this part and found no SEISNOSE.

• General: Since this rule was enacted, the Federal Aviation Act was revised and recodified within subtitle VII of title 49 of the United States Code (Pub. L. 103-272, July 5, 1994). Since the codification, the Department has made numerous amendments to make the CFR consistent with the provisions of the current statute (49 U.S.C., Subtitle VII). As a result, OST will be conducting a rulemaking to update the economic regulations by modifying language to reflect current statutory provisions. See RIN 2105-AD86. OST's plain language review indicates no need for substantial revision on that basis.

14 CFR part 250—Oversales

• Section 610: OST conducted a section 610 review of this part and found no SEISNOSE.

• General: This part was last revised in August 2015 to adjust denied boarding compensation amounts for inflation (80 FR 30144). OST is considering revising several sections (250.5, 250.9, and 250.11) for plain language. OST is also considering general revisions to conform to new rules allowing for electronic payment of denied boarding compensation, and to account for the prevalence of e-ticketing.

14 CFR part 251—Carriage of Musical Instruments

• Section 610: OST conducted a section 610 review of this part and found no SEISNOSE.

• General: This regulation implements section 403 of the FAA Modernization and Reform Act of 2012 regarding the carriage of musical instruments as carry-on baggage or checked baggage on commercial passenger flights operated by air carriers. The rule text implements the statute verbatim. There is no further action necessary.

14 CFR part 252—Smoking aboard aircraft

• Section 610: OST conducted a section 610 review of this part and found no SEISNOSE.

• General: This part was thoroughly revised in March 2016 (81 FR 11415). There is no further action necessary at this time. The rule is currently being challenged in the D.C. Circuit (CEI vs. DOT; #16-1128). Revisions may be required if the suit is successful. OST's plain language review indicates no need for substantial revision on that basis.

14 CFR part 253—Notice of Terms of Contract of Carriage

• Section 610: OST conducted a section 610 review of this part and found no SEISNOSE.

• General: This part was last revised, in part, in April 2011 (76 FR 26163). OST has decided that additional editorial updates are needed and to remove certain outdated language. OST has determined that sections 253.1, 253.2, and 253.10 should be revised for plain language.

14 CFR part 254—Domestic Baggage Liability

• Section 610: OST conducted a section 610 review of this part and found no SEISNOSE.

• General: This part was last revised in August 2015 to adjust domestic baggage liability limits (80 FR 30144). OST is considering revising several sections (254.1 and 254.2) for plain language. No other revisions are necessary.

14 CFR part 259—Enhancing Protections for Airline Passengers

• Section 610: OST conducted a Section 610 review of this part and found no SEISNOSE.

• General: This part was last revised in 2009. OST has determined that changes are needed to make sections 259.3 and 259.4 consistent with 49 U.S.C. 42301. OST has a proposed rulemaking action under RIN 2105-AE47 that would make the necessary updates to this regulation. OST's plain language review indicates no need for substantial revision on that basis.

Year 3 (Fall 2010) List of Rules Analyzed and a Summary of Results

14 CFR part 213—Terms, Conditions, and Limitations of Foreign Air Carrier Permits

• Section 610: OST conducted a section 610 review of this part and found no SEISNOSE.

• General: No changes are needed. OST plain language review of these rules indicates no need for substantial revision.

14 CFR part 214—Terms, Conditions, and Limitations of Foreign Air Carrier Permits Authorizing Charter Transportation only

• Section 610: OST conducted a section 610 review of this part and found no SEISNOSE.

• General: Since this rule was enacted, the Federal Aviation Act was revised and recodified within subtitle VII of title 49 of the United States Code (Pub. L. 103-272, July 5, 1994). Since the codification, the Department has made numerous amendments to make the CFR consistent with the provisions of the current statute (49 U.S.C., subtitle VII). As a result, OST will be conducting a rulemaking to update the economic regulations by modifying language to reflect current statutory provisions. See RIN 2105-AD86. OST's plain language review indicates no need for substantial revision on that basis.

14 CFR part 215—Use and Change of Names of Air Carriers, Foreign Air Carriers, and Commuter Air Carriers

• Section 610: OST conducted a section 610 review of this part and found no SEISNOSE.

• General: Since this rule was enacted, the Federal Aviation Act was revised and recodified within subtitle VII of title 49 of the United States Code (Pub. L. 103-272, July 5, 1994). Since the codification, the Department has made numerous amendments to make the CFR consistent with the provisions of the current statute (49 U.S.C., Subtitle VII). As a result, OST will be conducting a rulemaking to update the economic regulations by modifying language to reflect current statutory provisions. See RIN 2105-AD86. OST's plain language review indicates no need for substantial revision on that basis.

14 CFR part 216—Commingling of Blind Sector Traffic by Foreign Air Carriers

• Section 610: OST conducted a section 610 review of this part and found no SEISNOSE.

• General: Since this rule was enacted, the Federal Aviation Act was revised and recodified within subtitle VII of title 49 of the United States Code (Pub. L. 103-272, July 5, 1994). Since the codification, the Department has made numerous amendments to make the CFR consistent with the provisions of the current statute (49 U.S.C., Subtitle VII). As a result, OST will be conducting a rulemaking to update the economic regulations by modifying language to reflect current statutory provisions. See RIN 2105-AD86. OST's plain language review indicates no need for substantial revision on that basis.

14 CFR part 217—Reporting Traffic Statistics by Foreign Air Carriers in Civilian Scheduled, Charter, and Nonscheduled Services

• Section 610: OST conducted a section 610 review of this part and found no SEISNOSE.

• General: The reviews performed for the Aviation Clean-up Rule (RIN 2105-AD86) revealed general updates are needed. All changes are incorporated into this rule. OST's plain language review indicated no need for substantial revision on that basis.

14 CFR part 218—Lease by Foreign Air Carrier or Other Foreign Person of Aircraft with Crew

• Section 610: OST conducted a section 610 review of this part and found no SEISNOSE.

• General: Since this rule was enacted, the Federal Aviation Act was revised and recodified within subtitle VII of title 49 of the United States Code (Pub. L. 103-272, July 5, 1994). Since the codification, the Department has made numerous amendments to make the CFR consistent with the provisions of the current statute (49 U.S.C., Subtitle VII). As a result, OST will be conducting a rulemaking to update the economic regulations by modifying language to reflect current statutory provisions. See RIN 2105-AD86. OST's plain language review indicates no need for substantial revision on that basis.

14 CFR part 221—Tariffs

• Section 610: OST conducted a section 610 review of this part and found no SEISNOSE.

• General: Since this rule was enacted, the Federal Aviation Act was revised and recodified within subtitle VII of title 49 of the United States Code (Pub. L. 103-272, July 5, 1994). Since the codification, the Department has made numerous amendments to make the CFR consistent with the provisions of the current statute (49 U.S.C., Subtitle VII). As a result, OST will be conducting a rulemaking to update the economic regulations by modifying language to reflect current statutory provisions. See RIN 2105-AD86. OST's plain language review indicates no need for substantial revision on that basis.

14 CFR part 222—Intermodal Cargo Services by Foreign Air Carriers

• Section 610: OST conducted a Section 610 review of this part and found no SEISNOSE.

• General: Since this rule was enacted, the Federal Aviation Act was revised and recodified within subtitle VII of title 49 of the United States Code (Pub. L. 103-272, July 5, 1994). Since the codification, the Department has made numerous amendments to make the CFR consistent with the provisions of the current statute (49 U.S.C., subtitle VII). As a result, OST will be conducting a rulemaking to update the economic regulations by modifying language to reflect current statutory provisions. See RIN 2105-AD86. OST's plain language review indicates no need for substantial revision on that basis.

14 CFR part 223—Free and Reduced-Rate Transportation

• Section 610: OST conducted a section 610 review of this part and found no SEISNOSE.

• General: Since this rule was enacted, the Federal Aviation Act was revised and recodified within subtitle VII of title 49 of the United States Code (Pub. L. 103-272, July 5, 1994). Since the codification, the Department has made numerous amendments to make the CFR consistent with the provisions of the current statute (49 U.S.C., Subtitle VII). As a result, OST will be conducting a rulemaking to update the economic regulations by modifying language to reflect current statutory provisions. See RIN 2105-AD86. OST's plain language review indicates no need for substantial revision on that basis.

14 CFR part 232—Transportation of Mail, Review of Orders of Postmaster General

• Section 610: OST conducted a section 610 review of this part and found no SEISNOSE.

• General: Part 232 established procedures for a party aggrieved by an order of the Postmaster General to request a review by DOT. In 2008, amendments to 49 U.S.C. 41902 removed from the statute the authority for the Secretary of Transportation to amend, modify, suspend, or cancel an order of the Postal Service (Pub. L. 110-405, Jan. 4, 2008). Accordingly, the statutory basis for part 232 regulations no longer exists and part 232 should be removed. See RIN 2105-AD86. OST's plain language review indicates no need for substantial revision on that basis.

Year 2 (Fall 2009) List of Rules With Ongoing Analysis

48 CFR part 1200—[Reserved]

48 CFR part 1201—Federal Acquisition Regulations System

48 CFR part 1202—Definitions of Words and Terms

48 CFR part 1203—Improper Business Practices and Personal Conflicts of Interest

48 CFR part 1204—Administrative Matters

48 CFR part 1205—Publicizing Contract Actions

48 CFR part 1206—Competition Requirements

48 CFR part 1207—Acquisition Planning

48 CFR part 1208-1210—[Reserved]

48 CFR part 1211—Describing Agency Needs

48 CFR part 1212— [Reserved]

48 CFR part 1213—Simplified Acquisition Procedures

48 CFR part 1214—Sealed Bidding

48 CFR part 1215—Contracting by Negotiation

48 CFR part 1216—Types of Contracts

48 CFR part 1217—Special Contracting Methods

48 CFR part 1218—[Reserved]

48 CFR part 1219—Small Business Programs

48 CFR part 1220—1221—[Reserved]

48 CFR part 1222—Application of Labor Laws to Government Acquisitions

48 CFR part 1223—Environment, Energy and Water Efficiency, Renewable Energy Technologies, Occupational Safety, and Drug-Free Workplace

48 CFR part 1224—Protection of Privacy and Freedom of Information

48 CFR part 1225-1226—[Reserved]

48 CFR part 1227—Patents, Data, and Copyrights

48 CFR part 1228—Bonds and Insurance

48 CFR part 1229-130—[Reserved]

48 CFR part 1231—Contract Cost Principles and Procedures

48 CFR part 1232—Contract Financing

48 CFR part 1233—Protests, Disputes, and Appeals

48 CFR part 1234— [Reserved]

48 CFR part 1235—Research and Development Contracting

48 CFR part 1236—Construction and Architect-Engineer Contracts

48 CFR part 1237—Service Contracting

48 CFR part 1238—[Reserved]

48 CFR part 1239—Acquisition of Information Technology

48 CFR part 1240-1241—[Reserved]

48 CFR part 1242—Contract Administration and Audit Services

48 CFR part 1243-1244—[Reserved]

48 CFR part 1245—Government Property

48 CFR part 1246—Quality Assurance

48 CFR part 1247—Transportation

48 CFR part 1248-1251—[Reserved]

48 CFR part 1252—Solicitation Provisions and Contract Clauses

48 CFR part 1253—Forms

48 CFR part 1254-1299—Reserved

Year 1 (Fall 2008) List of Rules Analyzed and a Summary of Results

49 CFR part 91—International Air Transportation Fair Competitive Practices

• Section 610: OST conducted a Section 610 review of this part and found no SEISNOSE.

• General: Since this rule was enacted, the International Air Transportation Fair Competitive Practices Act of 1974 was revised and recodified within Subtitle VII of Title 49 of the United States Code (Pub. L. 103-272, July 5, 1994). Furthermore, under the Airline Deregulation Act of 1978, the authority of the Civil Aeronautics Board was transferred to the Department of Transportation. As a result, OST will seek to conduct a rulemaking to rescind the rule. OST's plain language review indicates no need for substantial revision on that basis.

49 CFR part 92—Recovering Debts to the United States by Salary Offset

• Section 610: OST conducted a Section 610 review of this part and found no SEISNOSE.

• General: Changes are needed to make the regulations current regarding certain administrative updates and removal of outdated language. These regulations are cost effective and impose the least burden. OST's plain language review of these rules indicates no need for substantial revision.

49 CFR part 93—Aircraft Allocation

• Section 610: OST conducted a Section 610 review of this part and found no SEISNOSE.

• General: Upon OST review of this rule it is recommended that the regulation is repealed. However, before moving forward DOT will need to ascertain if this action would impact DOD's implementation of the Civil Reserve Air fleet Program. OST's plain language review of these rules indicates no need for substantial revision.

49 CFR part 98—Enforcement of Restrictions on Post-Employment Activities

• Section 610: OST conducted a Section 610 review of this part and found no SEISNOSE

• General: OST is considering a rulemaking to rescind this rule since there is already adequate procedure for referral of violations of the criminal post-Government employment rules to the Inspector General or the Department of Justice. See 5 CFR 2638.502,

49 CFR part 99—Employee Responsibilities and Conduct

• Section 610: OST conducted a Section 610 review of this part and found no SEISNOSE

• General: Recommend rulemaking to rescind this rule.

14 CFR part 200—Definitions and Instructions

• Section 610: OST conducted a Section 610 review of this part and found no SEISNOSE.

• General: Since this rule was enacted, the Federal Aviation Act was revised and recodified within Subtitle VII of Title 49 of the United States Code (Pub. L. 103-272, July 5, 1994). Since the codification, the Department has made numerous amendments to make the CFR consistent with the provisions of the current statute (49 U.S.C., Subtitle VII). As a result, OST will be conducting a rulemaking to update the economic regulations by modifying language to reflect current statutory provisions. See RIN 2105-AD86. OST's plain language review indicates no need for substantial revision on that basis.

14 CFR part 201—Air Carrier Authority Under Subtitle VII of Title 49 of the United States Code [Amended]

• Section 610: OST conducted a Section 610 review of this part and found no SEISNOSE.

• General: Since this rule was enacted, the Federal Aviation Act was revised and recodified within Subtitle VII of Title 49 of the United States Code (Pub. L. 103-272, July 5, 1994). Since the codification, the Department has made numerous amendments to make the CFR consistent with the provisions of the current statute (49 U.S.C., Subtitle VII). As a result, OST will be conducting a rulemaking to update the economic regulations by modifying language to reflect current statutory provisions. See RIN 2105-AD86. OST's plain language review indicates no need for substantial revision on that basis.

14 CFR part 203—Waiver of Warsaw Convention Liability Limits and Defenses

• Section 610: OST conducted a Section 610 review of this part and found no SEISNOSE.

• General: Since this rule was enacted, the Federal Aviation Act was revised and recodified within Subtitle VII of Title 49 of the United States Code (Pub. L. 103-272, July 5, 1994). Since the codification, the Department has made numerous amendments to make the CFR consistent with the provisions of the current statute (49 U.S.C., Subtitle VII). As a result, OST will be conducting a rulemaking to update the economic regulations by modifying language to reflect current statutory provisions. See RIN 2105-AD86. OST's plain language review indicates no need for substantial revision on that basis.

14 CFR part 204—Data to Support Fitness Determinations

• Section 610: OST conducted a Section 610 review of this part and found no SEISNOSE.

• General: Since this rule was enacted, the Federal Aviation Act was revised and recodified within Subtitle VII of Title 49 of the United States Code (Pub. L. 103-272, July 5, 1994). Since the codification, the Department has made numerous amendments to make the CFR consistent with the provisions of the current statute (49 U.S.C., Subtitle VII). As a result, OST will be conducting a rulemaking to update the economic regulations by modifying language to reflect current statutory provisions. See RIN 2105-AD86. OST's plain language review indicates no need for substantial revision on that basis.

14 CFR part 205—Aircraft Accident Liability Insurance

• Section 610: OST conducted a Section 610 review of this part and found no SEISNOSE.

• General: Since this rule was enacted, the Federal Aviation Act was revised and recodified within Subtitle VII of Title 49 of the United States Code (Pub. L. 103-272, July 5, 1994). Since the codification, the Department has made numerous amendments to make the CFR consistent with the provisions of the current statute (49 U.S.C., Subtitle VII). As a result, OST will be conducting a rulemaking to update the economic regulations by modifying language to reflect current statutory provisions. See RIN 2105-AD86. OST's plain language review indicates no need for substantial revision on that basis.

14 CFR part 206—Certificates of Public Convenience and Necessity: Special Authorizations and Exemptions

• Section 610: OST conducted a Section 610 review of this part and found no SEISNOSE.

• General: No changes are needed. These regulations are cost effective and impose the least burden. OST's plain language review of these rules indicates no need for substantial revision.

14 CFR part 207—Charter Trips by U.S. Scheduled Air Carriers

• Section 610: OST conducted a Section 610 review of this part and found no SEISNOSE.

• General: OST's general review of the regulations indicates that they may be duplicative of the regulations of 14 CFR part 212. Therefore, OST will conduct a rulemaking to evaluate the necessity of part 207 and to rescind it if necessary. See RIN 2105-AD86. OST's plain language review of these rules indicates no need for substantial revision on that basis.

14 CFR part 208—Charter Trips by U.S. Charter Air Carriers

• Section 610: OST conducted a Section 610 review of this part and found no SEISNOSE.

• General: OST's general review of the regulations indicates that they may be duplicative of the regulations of 14 CFR part 212. Therefore, OST will conduct a rulemaking to evaluate the necessity of part 208 and to rescind it if necessary. See RIN 2105-AD86. OST's plain language review of these rules indicates no need for substantial revision on that basis.

14 CFR part 211—Applications for Permits to Foreign Air Carriers

• Section 610: OST conducted a Section 610 review of this part and found no SEISNOSE.

• General: Since this rule was enacted, the Federal Aviation Act was revised and recodified within Subtitle VII of Title 49 of the United States Code (Pub. L. 103-272, July 5, 1994). Since the codification, the Department has made numerous amendments to make the CFR consistent with the provisions of the current statute (49 U.S.C., Subtitle VII). As a result, OST will be conducting a rulemaking to update the economic regulations by modifying language to reflect current statutory provisions. See RIN 2105-AD86. OST's plain language review indicates no need for substantial revision on that basis.

14 CFR part 212—Charter Rules for U.S. and Foreign Direct Air Carriers

• Section 610: OST conducted a Section 610 review of this part and found no SEISNOSE.

• General: Since this rule was enacted, the Federal Aviation Act was revised and recodified within Subtitle VII of Title 49 of the United States Code (Pub. L. 103-272, July 5, 1994). Since the codification, the Department has made numerous amendments to make the CFR consistent with the provisions of the current statute (49 U.S.C., Subtitle VII). As a result, OST will be conducting a rulemaking to update the economic regulations by modifying language to reflect current statutory provisions. See RIN 2105-AD86. OST's plain language review indicates no need for substantial revision on that basis.

Federal Aviation Administration

Section 610 and Other Reviews

Section 610 Review Plan and Summary

The Federal Aviation Administration (FAA) has elected to use the two-step, two-year process used by most Department of Transportation (DOT) modes in past plans. As such, the FAA has divided its rules into 10 groups as displayed in the table below. During the first year (the “analysis year”), all rules published during the previous 10 years within a 10% block of the regulations will be analyzed to identify those with a significant economic impact on a substantial number of small entities (SEISNOSE). During the second year (the “review year”), each rule identified in the analysis year as having a SEISNOSE will be reviewed in accordance with Section 610 (b) to determine if it should be continued without change or changed to minimize impact on small entities. Results of those reviews will be published in the DOT Semiannual Regulatory Agenda.

Year | Regulations to be reviewed | Analysis year | Review year
1 | 14 CFR parts 417 through 460 | 2017 | 2018
2 | 14 CFR parts 119 through 129 and parts 150 through 156 | 2018 | 2019
3 | 14 CFR parts 133 through 139 and parts 157 through 169 | 2019 | 2020
4 | 14 CFR parts 141 through 147 and parts 170 through 187 | 2020 | 2021
5 | 14 CFR parts 189 through 198 and parts 1 through 16 | 2021 | 2022
6 | 14 CFR parts 17 through 33 | 2022 | 2023
7 | 14 CFR parts 34 through 39 and parts 400 through 405 | 2023 | 2024
8 | 14 CFR parts 43 through 49 and parts 406 through 415 | 2014 | 2025
9 | 14 CFR parts 60 through 77 | 2025 | 2026
10 | 14 CFR parts 91 through 105 | 2026 | 2027

Background on the Regulatory Flexibility Act

The Regulatory Flexibility Act of 1980 as amended (RFA), (§§ 601 through 612 of Title 5, United States Code (5 U.S.C.)) requires Federal regulatory agencies to analyze all proposed and final rules to determine their economic impact on small entities, which includes small businesses, small organizations, and small governmental jurisdictions. The primary purpose of the RFA is to establish as a principle of regulatory issuance that Federal agencies endeavor, consistent with the objectives of the rule and applicable statutes, to fit regulatory and informational requirements to the scale of entities subject to the regulation. The FAA performed the required RFA analyses of each final rulemaking action and amendment it has initiated since enactment of the RFA in 1980.

Section 610 of 5 U.S.C. requires government agencies to periodically review all regulations that will have a SEISNOSE. The FAA must analyze each rule within 10 years of its publication date.

Defining SEISNOSE

The RFA does not define “significant economic impact.” Therefore, there is no clear rule or number to determine when a significant economic impact occurs. However, the Small Business Administration (SBA) states that significance should be determined by considering the size of the business, the size of the competitor's business, and the impact the same regulation has on larger competitors.

Likewise, the RFA does not define “substantial number.” However, the legislative history of the RFA suggests that a substantial number must be at least one but does not need to be an overwhelming percentage such as more than half. The SBA states that the substantiality of the number of small businesses affected should be determined on an industry-specific basis.

This analysis consisted of the following three steps:

• Review of the number of small entities affected by the amendments to parts 417 through 460.

• Identification and analysis of all amendments to parts 417 through 460 since 2007 to determine whether any still have or now have a SEISNOSE.

• Review of the FAA Office of Aviation Policy, and Plans regulatory flexibility assessment of each amendment performed as required by the RFA.

Year 2 (2018) List of Rules To Be Analyzed the Next Year

14 CFR part 119—Certification: Air Carriers and Commercial Operators

14 CFR part 120—Drug and Alcohol Testing Program

14 CFR part 121—Operating Requirements: Domestic, Flag, and Supplemental Operations

14 CFR part 125—Certification and Operations: Airplanes Having a Seating Capacity of 20 or More Passengers or a Maximum Payload Capacity of 6,000 Pounds or More; and Rules Governing Persons on Board Such Aircraft

14 CFR part 129—Operations: Foreign Air Carriers and Foreign Operators of U.S.-Registered Aircraft Engaged in Common Carriage

14 CFR part 150—Airport Noise Compatibility Planning

14 CFR part 151—Federal Aid to Airports

14 CFR part 152—Airport Aid Program

14 CFR part 153—Airport Operations

14 CFR part 155—Release of Airport Property from Surplus Property Disposal Restriction

14 CFR part 156—State Block Grant Pilot Program

Year 1 (2017) List of Rules Analyzed and Summary of Results

14 CFR part 417—Launch Safety

• Section 610: The agency conducted a Section 610 review of this part and found Amendment No. 417-5, 81 FR 59439, Aug. 30, 2016. Amendment 91-314, 75 FR 30193, May 28, 2010; Amendment 91-314, 75 FR 30193, May 28, 2010; and Amendment 91-330, 79 FR 9972, Feb. 21, 2014 trigger SEISNOSE within the meaning of the RFA.

• General: No changes are needed. The FAA has considered a number of alternatives in attempts to lower compliance costs for small entities, but could not go forward with the lower cost alternatives without compromising the safety for the industry. FAA's plain language review of these rules indicates no need for substantial revision.

14 CFR part 420—License to Operate a Launch Site

• Section 610: The agency conducted a Section 610 review of this part and found no SEISNOSE.

• General: No changes are needed. These regulations are cost effective and impose the least burden. FAA's plain language review of these rules indicates no need for substantial revision.

14 CFR part 431—Launch and Reentry of a Reusable Launch Vehicle (RLV)

• Section 610: Section 610: The agency conducted a Section 610 review of this part and found there were no amendments since 2016. Therefore, part 99 does not trigger SEISNOSE.

• General: No changes are needed. FAA's plain language review of these rules indicates no need for substantial revision.

14 CFR part 433—License to Operate a Reentry Site

• Section 610: The agency conducted a Section 610 review of this part and found no SEISNOSE.

• General: No changes are needed. These regulations are cost effective and impose the least burden. FAA's plain language review of these rules indicates no need for substantial revision.

14 CFR part 435—Reentry of a Reentry Vehicle Other than a Reusable Launch Vehicle (RLV)

• Section 610: The agency conducted a Section 610 review of this part and found there were no amendments since 2016. Therefore, part 99 does not trigger SEISNOSE.

• General: No changes are needed. FAA's plain language review of these rules indicates no need for substantial revision.

14 CFR part 437—Experimental Permits

• Section 610: The agency conducted a Section 610 review of this part and found no SEISNOSE.

• General: No changes are needed. These regulations are cost effective and impose the least burden. FAA's plain language review of these rules indicates no need for substantial revision.

14 CFR part 440—Financial Responsibility

• Section 610: Section 610: The agency conducted a Section 610 review of this part and found there were no amendments since 2016. Therefore, part 99 does not trigger SEISNOSE.

• General: No changes are needed. FAA's plain language review of these rules indicates no need for substantial revision.

14 CFR part 460—Human Space Flight Requirements

• Section 610: The agency conducted a Section 610 review of this part and found no SEISNOSE.

• General: No changes are needed. These regulations are cost effective and impose the least burden. FAA's plain language review of these rules indicates no need for substantial revision.

Federal Highway Administration

Section 610 and Other Reviews

Year | Regulations to be reviewed | Analysis year | Review year
1 | None | 2008 | 2009
2 | 23 CFR parts 1 to 260 | 2009 | 2010
3 | 23 CFR parts 420 to 470 | 2010 | 2011
4 | 23 CFR part 500 | 2011 | 2012
5 | 23 CFR parts 620 to 637 | 2012 | 2013
6 | 23 CFR parts 645 to 669 | 2013 | 2014
7 | 23 CFR parts 710 to 924 | 2014 | 2015
8 | 23 CFR parts 940 to 973 | 2015 | 2016
9 | 23 CFR parts 1200 to 1252 | 2016 | 2017
10 | New parts and subparts | 2017 | 2018

Federal-Aid Highway Program

The Federal Highway Administration (FHWA) has adopted regulations in title 23 of the CFR, chapter I, related to the Federal-Aid Highway Program. These regulations implement and carry out the provisions of Federal law relating to the administration of Federal aid for highways. The primary law authorizing Federal aid for highway is chapter I of title 23 of the U.S.C. 145 of title 23, expressly provides for a federally assisted State program. For this reason, the regulations adopted by the FHWA in title 23 of the CFR primarily relate to the requirements that States must meet to receive Federal funds for the construction and other work related to highways. Because the regulations in title 23 primarily relate to States, which are not defined as small entities under the Regulatory Flexibility Act, the FHWA believes that its regulations in title 23 do not have a significant economic impact on a substantial number of small entities. The FHWA solicits public comment on this preliminary conclusion.

Year 9 (Fall 2016) List of Rules Analyzed and a Summary of Results

23 CFR part 1200—Uniform procedures for State highway safety grant programs

• Section 610: No SEISNOSE. No small entities are affected

• General: No changes are needed. These regulations are cost effective and impose the least burden. FHWA's plain language review of these rules indicates no need for substantial revision.

23 CFR part 1208—National minimum drinking age

• Section 610: No SEISNOSE. No small entities are affected

• General: No changes are needed. These regulations are cost effective and impose the least burden. FHWA's plain language review of these rules indicates no need for substantial revision.

23 FR part 1210—Operation of motor vehicles by intoxicated minors

• Section 610: No SEISNOSE. No small entities are affected

• General: No changes are needed. These regulations are cost effective and impose the least burden. FHWA's plain language review of these rules indicates no need for substantial revision.

23 CFR part 1215—Use of safety belts—compliance and transfer-of-funds procedures

• Section 610: No SEISNOSE. No small entities are affected

• General: No changes are needed. These regulations are cost effective and impose the least burden. FHWA's plain language review of these rules indicates no need for substantial revision.

23 CFR part 1225—Uniform system for parking for persons with disabilities

• Section 610: No SEISNOSE. No small entities are affected

• General: No changes are needed. These regulations are cost effective and impose the least burden. FHWA's plain language review of these rules indicates no need for substantial revision.

23 CFR part 1240—Safety incentive grants for use of seat belts—allocations based on seat belt use rates

• Section 610: No SEISNOSE. No small entities are affected

• General: No changes are needed. These regulations are cost effective and impose the least burden. FHWA's plain language review of these rules indicates no need for substantial revision.

Year 10 (Fall 2017) List of Rules That Will Be Analyzed During the Next Year

New Parts and Subparts since 2008 that have not undergone review.

23 CFR part 490—National Performance Management Measures

23 CFR part 505—Projects of National and Regional Significance Evaluation and Rating

23 CFR part 511—Real-Time System Management Information Program

23 CFR part 650 Subpart E—National Tunnel Inspection Standards

Federal Motor Carrier Safety Administration

Section 610 and Other Reviews

Year | Regulations to be reviewed | Analysis year | Review year
1 | 49 CFR part 372, subpart A | 2008 | 2009
2 | 49 CFR part 386 | 2009 | 2010
3 | 49 CFR parts 325 and 390 (General) | 2010 | 2011
4 | 49 CFR parts 390 (Small Passenger-Carrying Vehicles), 391 to 393 and 396 to 399 | 2011 | 2012
5 | 49 CFR part 387 | 2012 | 2013
6 | 49 CFR parts 360, 365, 366, 368, 374, 377, and 378 | 2013 | 2014
7 | 49 CFR parts 356, 367, 369, 370, 371, 372 (subparts B and C) | 2014 | 2015
8 | 49 CFR parts 373, 376, and 379 | 2015 | 2016
9 | 49 CFR part 375 | 2016 | 2017
10 | 49 CFR part 395 | 2017 | 2018

Year 8 (Fall 2014) List of Rules and a Summary of Results

49 CFR part 373—Receipts and Bills

• Section 610: There is no SEISNOSE. FMCSA requires certain motor carriers and freight forwarders to issue and retain a receipt or bill of lading for property tendered for transportation in interstate or foreign commerce.

• General: These regulations are cost effective and impose almost no additive financial burden upon the carrier. Retaining billing information constitutes a prudent business practice which would likely be required for tax and customer service purposes. The rule is written in clear and unambiguous language, and should be retained.

49 CFR part 376—Lease and Interchange of Vehicles

• Section 610: There is no SEISNOSE. FMCSA requires certain authorized carriers that transport equipment (that it does not own) to retain a lease, and maintain appropriate equipment records.

• General: These regulations are cost effective and impose almost no additive financial burden upon the carrier. The rule principally defines the conditions by which certain carriers must retain leasing documents, insurance, financial and other related documentation. The stipulations in the rule are consistent with prudent business practices in support of customer service, accident liability, and financial matters. The rule takes great pains to “exempt” carriers, is written in clear and unambiguous language, and should be retained.

49 CFR part 379—Preservation of Records

• Section 610: There is no SEISNOSE. The rule requires certain companies to retain, protect, store, and as appropriate, dispose of records in accordance with minimum retention periods stipulated in appendix A of part 379.

• General: These regulations are cost effective and impose almost no additive financial burden upon the carrier. Retaining financial, contractual, property/equipment, taxes, shipping and other supporting business documents represent a prudent business practice which the carrier should already be doing. The rule is written in clear and unambiguous language and should be retained.

Year 9 (2015) List of Rules With Ongoing Analysis

49 CFR part 375—Transportation of household goods in interstate commerce; consumer protection regulations

Year 10 (2016) List of Rules That Will Be Analyzed During the Next Year

49 CFR part 395—Hours of Service of Drivers

National Highway Traffic Safety Administration

Section 610 and Other Reviews

Year | Regulations to be reviewed | Analysis year | Review year
1 | 49 CFR parts 571.223 through 571.500, and parts 575 and 579 | 2008 | 2009
2 | 23 CFR parts 1200 through 1300 | 2009 | 2010
3 | 49 CFR parts 501 through 526 and 571.213 | 2010 | 2011
4 | 49 CFR parts 571.131, 571.217, 571.220, 571.221, and 571.222 | 2011 | 2012
5 | 49 CFR parts 571.101 through 571.110, and 571.135, 571.138, and 571.139 | 2012 | 2013
6 | 49 CFR parts 529 through 578, except parts 571 and 575 | 2013 | 2014
7 | 49 CFR parts 571.111 through 571.129 and parts 580 through 588 | 2014 | 2015
8 | 49 CFR parts 571.201 through 571.212 | 2015 | 2016
9 | 49 CFR parts 571.214 through 571.219, except 571.217 | 2016 | 2017
10 | 49 CFR parts 591 through 595 and new parts and subparts | 2017 | 2018

Year 9 (Fall 2016) List of Rules With Ongoing Analysis

49 CFR part 571.214—Side Impact Protection

49 CFR part 571.215—[Reserved]

49 CFR part 571.216—Roof Crush Resistance; Applicable Unless a Vehicle Is Certified to 571.216a

49 CFR part 571.216a—Roof Crush Resistance; Upgraded Standard

49 CFR part 571.218—Motorcycle Helmets

49 CFR part 571.219—Windshield Zone Intrusion

Year 10 (Fall 2017) List of Rules That Will Be Analyzed During the Next Year

Part 591 Importation of Vehicles and Equipment Subject to Federal Safety, Bumper and Theft Prevention Standards

Part 592 Registered Importers of Vehicles not Originally Manufactured to conform to the Federal Motor Vehicle Safety Standards

Part 593 Determinations that a vehicle not originally manufactured to conform to the federal motor vehicle safety standards is eligible for importation

Part 594 Schedule of Fees authorized by 49 U.S.C. 30141

Part 595 Make Inoperative Exemptions

Federal Railroad Administration

Section 610 and Other Reviews

Year | Regulations to be reviewed | Analysis year | Review year
1 | 49 CFR parts 200 and 201 | 2008 | 2009
2 | 49 CFR parts 207, 209, 211, 215, 238, and 256 | 2009 | 2010
3 | 49 CFR parts 210, 212, 214, 217, and 268 | 2010 | 2011
4 | 49 CFR part 219 | 2011 | 2012
5 | 49 CFR parts 218, 221, 241, and 244 | 2012 | 2013
6 | 49 CFR parts 216, 228, and 229 | 2013 | 2014
7 | 49 CFR parts 223 and 233 | 2014 | 2015
8 | 49 CFR parts 224, 225, 231, and 234 | 2015 | 2016
9 | 49 CFR parts 222, 227, 235, 236, 250, 260, and 266 | 2016 | 2017
10 | 49 CFR parts 213, 220, 230, 232, 239, and 240 | 2017 | 2018

Year 9 (Fall 2016) List of Rules Analyzed and a Summary of Results

49 CFR part 222—Use of Locomotive Horns at Public Highway-Rail Grade Crossings

• Section 610: There is no SEISNOSE.

• General: The purpose of this rule is to provide for safety at public highway-rail grade crossings by requiring locomotive horn use at public highway-rail grade crossings except in quiet zones established and maintained in accordance with this rule. FRA's plain language review of this rule indicates no need of substantial revision.

49 CFR part 227—Occupational Noise Exposure

• Section 610: There is no SEISNOSE.

• General: The main objective of the rule is to protect the occupational health and safety of employees whose predominant noise exposure occurs in the locomotive cab. The rule prescribes minimum Federal health and safety noise standards for locomotive cab occupants. This rule does not restrict a railroad or railroad contractor from adopting and enforcing additional or more stringent requirements. FRA's plain language review of this rule indicates no need for substantial revision.

49 CFR part 235—Instructions Governing Applications for Approval of a Discontinuance or Material Modification of a Signal System or Relief from the Requirements of Part 236

• Section 610: There is no SEISNOSE.

• General: Since the rule prescribes instructions regarding applications for approval of a discontinuance or material modification of a signal system or relief from the requirements of Part 236, it promotes and enhances the safety of railroad operations. FRA's plain language review of this rule indicates no need for substantial revision

49 CFR part 236—Rules, Standards and Instructions Governing the Installation, Inspection, Maintenance and Repair of Signal and Train Control Systems, Devices and Appliances

• Section 610: There is no SEISNOSE.

• General: Since the rule prescribes standards and instructions about the installation, inspection, maintenance and repair of signal and train control systems, devices and appliances, and performance-based safety standards for PTC systems, it will promote and enhance the safety of railroad operations. FRA's plain language review of this rule indicates no need for substantial revision.

49 CFR part 250—Guarantee of Certificates of Trustees of Railroads in Reorganization

• Section 610: There is no SEISNOSE.

• General: The purpose of this rule is to describe the requirements regarding form and content of applications, required exhibits, fees, execution and filing of applications and general instructions to obtain guarantee of certificates by the Secretary of Transportation for trustees of railroads in reorganization under the former Section 77 of the Bankruptcy Act. FRA's plain language review of this rule indicates no need for substantial revision.

49 CFR part 260—Regulations Governing Loans and Loan Guarantees under the Railroad Rehabilitation and Improvement Financing Program

• Section 610: The Railroad Rehabilitation and Improvement Financing Program, which operates under regulations in 49 CFR part 260 “Regulations Governing Loans and Loan Guarantees under the Railroad Rehabilitation and Improvement Financing Program”, are now administered by the Executive Director of the Build America Bureau. The Build America Bureau is reviewing the regulations to determine what updates are necessary.

• General: The purpose of this rule is to provide direct loans and loan guarantees to eligible applicants, including State and local governments, government sponsored authorities and corporations and railroads. FRA is assessing in, consultation with the Build America Bureau, how to revise 49 CFR part 260 to reflect the RRIF program transfer. FRA is not rescinding the regulations at this time because the Build America Bureau necessarily relies on certain sections under Part 260 in administering the RRIF program.

49 CFR part 266—Assistance to States for Local Rail Service under Section 5 of the Department of Transportation Act

• Section 610: There is no SEISNOSE.

• General: The purpose of the rule is to provide assistance to States for local rail service which includes: Rail service continuation assistance; acquisition assistance; rehabilitation or improvement assistance; substitute service assistance; rail facility construction assistance; planning assistance; and program operations assistance. However, there are special limitations on planning assistance and program operations assistance. No appropriations are currently available for providing the assistance. FRA is currently evaluating whether 49 CFR part 266 should be rescinded because FRA does not anticipate future funding of the programs concerned.

Year 10 (Fall 2017) List of Rule(s) That Will Be Analyzed During Next Year

49 CFR part 213—Track Safety Standards

49 CFR part 220—Railroad Communications

49 CFR part 230—Steam Locomotive Inspection and Maintenance Records

49 CFR part 232—Brake System Safety Standards for Freight and Other Non-Passenger Trains and Equipment; End of Train Devices

49 CFR part 239—Passenger Train Emergency Preparedness

49 CFR part 240—Qualification and Certification of Locomotive Engineers

Federal Transit Administration

Section 610 and Other Reviews

Year | Regulations to be reviewed | Analysis year | Review year
1 | 49 CFR parts 604, 605, and 633 | 2008 | 2009
2 | 49 CFR parts 661 and 665 | 2009 | 2010
3 | 49 CFR part 633 | 2010 | 2011
4 | 49 CFR parts 609 and 611 | 2011 | 2012
5 | 49 CFR parts 613 and 614 | 2012 | 2013
6 | 49 CFR part 622 | 2013 | 2014
7 | 49 CFR part 630 | 2014 | 2015
8 | 49 CFR part 639 | 2015 | 2016
9 | 49 CFR parts 659 and 663 | 2016 | 2017
10 | 49 CFR part 665 | 2017 | 2018

Year 9 (Fall 2016) List of Rules Analyzed and Summary of Results

49 CFR part 659—Rail Fixed Guideway Systems; State Safety Oversight

• Section 610: The agency has determined that the rule continues to not have a significant effect on a substantial number of small entities. Pursuant to the Moving Ahead for Progress in the 21st Century Act (MAP-21) (Pub. L. 112-141, July 6, 2012), FTA has established a comprehensive public transportation safety program, one element of which is the State Safety Oversight (SSO) Program. (See 49 U.S.C. 5329). FTA has issued a revised SSO Program regulation (49 CFR part 674) which became effective April 15, 2016; however, Part 659 will remain in effect until April 14, 2019 at which time it will sunset. In the interim, SSO Agencies will revise their programs to meet the requirements of Part 674. Prior to publication of the final rule (81 FR 14229, March 16, 2016), FTA evaluated the likely effect of the proposals as required by the Regulatory Flexibility Act, and determined that this rule will have no SEISNOSE. Like Part 659, the parties subject to the rule are those states that must carry out the oversight of rail fixed guideway public transportation systems within their jurisdictions.

• General: Congress enacted the Moving Ahead for Progress in the 21st Century Act (MAP-21) (Pub. L. 112-141, July 6, 2012). FTA promulgated a new rule, 49 CFR part 674, to implement the MAP-21 requirements which require a state to oversee the safety and security of rail fixed guideway systems within its jurisdiction. Pursuant to MAP-21, Part 659 will be rescinded in April 2019; that is, three-years following the effective date of the Part 674. Meanwhile, states will revise their SSO programs to conform to the new MAP-21 requirements. Part 674 specifies that a state must have its new program standard certified by FTA. In addition, a state must demonstrate its SSOA's financial and legal independence from the RTAs it oversees and demonstrate its ability to effectively oversee the safety of the rail fixed guideway public transportation systems throughout the state. FTA's plain language review of this rule indicates no need for substantial revision.

49 CFR part 663—Pre-Award and Post-Delivery Audits of Rolling Stock Purchases

• Section 610: FTA conducted a Section 610 review of this part and found no SEISNOSE.

• General: The rule was promulgated to assist transit agencies conducting pre-award and post-delivery audits of rolling stock procurements, as required under 49 U.S.C. 5323(m). The agency has determined that the rule is cost-effective and imposes the least possible burden on small entities. FTA's plain language review of this rule indicates no need for substantial revision.

Year 10 (Fall 2017)—List of Rule(s) That Will Be Analyzed This Year

49 CFR part 665—Bus Testing

Maritime Administration

Section 610 and Other Reviews

Year | Regulations to be reviewed | Analysis year | Review year
1 | 46 CFR parts 201 through 205 | 2008 | 2009
2 | 46 CFR parts 221 through 232 | 2009 | 2010
3 | 46 CFR parts 249 through 296 | 2010 | 2011
4 | 46 CFR parts 221, 298, 308, and 309 | 2011 | 2012
5 | 46 CFR parts 307 through 309 | 2012 | 2013
6 | 46 CFR part 310 | 2013 | 2014
7 | 46 CFR parts 315 through 340 | 2014 | 2015
8 | 46 CFR parts 345 through 381 | 2015 | 2016
9 | 46 CFR parts 382 through 389 | 2016 | 2017
10 | 46 CFR parts 390 through 393 | 2017 | 2018

Year 8 (2015) List of Rules With Ongoing Analysis

46 CFR part 345—Restrictions upon the transfer or change in use or in terms governing utilization of port facilities

46 CFR part 346—Federal port controllers

46 CFR part 370—Claims

46 CFR part 381—Cargo preference—U.S.-flag vessels

Year 9 (2016) List of Rules With Ongoing Analysis

46 CFR part 382—Determination of fair and reasonable rates for the carriage of bulk and packaged preference cargoes on U.S.-flag commercial vessels

46 CFR part 385—Research and development grant and cooperative agreements regulations

46 CFR part 386—Regulations governing public buildings and grounds at the United States Merchant Marine Academy

46 CFR part 387—Utilization and disposal of surplus Federal real property for development or operation of a port facility

46 CFR part 388—Administrative waivers of the Coastwise Trade Laws

46 CFR part 389—Determination of availability of coast-wise-qualified vessels for transportation of platform jackets

Year 10 (2017) List of Rules That Will Be Analyzed During the Next Year

46 CFR part 390—Capital Construction Fund implementing regulations

46 CFR part 391—Federal Income Tax Aspects of the Capital Construction Fund

46 CFR part 393—America's Marine Highway Program implementing regulations

Pipeline and Hazardous Materials Safety Administration (PHMSA)

Section 610 and Other Reviews

Year | Regulations to be reviewed | Analysis year | Review year
1 | 49 CFR part 178 | 2008 | 2009
2 | 49 CFR parts 178 through 180 | 2009 | 2010
3 | 49 CFR parts 172 and 175 | 2010 | 2011
4 | 49 CFR part 171, sections 171.15 and 171.16 | 2011 | 2012
5 | 49 CFR parts 106, 107, 171, 190, and 195 | 2012 | 2013
6 | 49 CFR parts 174, 177, 191, and 192 | 2013 | 2014
7 | 49 CFR parts 176 and 199 | 2014 | 2015
8 | 49 CFR parts 172 and 178 | 2015 | 2016
9 | 49 CFR parts 172, 173, 174, 176, 177, and 193 | 2016 | 2017
10 | 49 CFR parts 173 and 194 | 2017 | 2018

Year 9 (Fall 2017) List of Rules Analyzed and a Summary of Results

49 CFR parts 172, 173, 174, 176, and 177—Hazardous Materials Table, Special Provisions, Hazardous Materials Communications, Emergency Response Information, Training Requirements, and Security Plans; Shippers—General Requirements for Shipments and Packaging; Carriage by Rail; Carriage by Vessel; and Carriage by Public Highway.

• Section 610: There is no SEISNOSE. A substantial number of small entities may be affected by this rule, but the economic impact on those entities is not significant. Plain Language: PHMSA's plain language review of this rule indicates no need for substantial revision. Where confusing or wordy language has been identified, revisions will be proposed in the upcoming biennial international harmonization rulemaking.

• General: On March 30, 2017, PHMSA issued a final rule titled “Hazardous Materials: Harmonization with International Standards” that amended the Hazardous Materials Regulations (HMR) to maintain consistency with international regulations and standards by incorporating various amendments, including changes to proper shipping names, hazard classes, packing groups, special provisions, packaging authorizations, air transport quantity limitations, and vessel stowage requirements (82 FR 15796). These revisions were necessary to harmonize the HMR with recent changes made to the International Maritime Dangerous Goods (IMDG) Code, the International Civil Aviation Organization's Technical Instructions (ICAO TI) for the Safe Transport of Dangerous Goods by Air, and the United Nations (UN) Recommendations on the Transport of Dangerous Goods—Model Regulations. Additionally, PHMSA adopted several amendments to the HMR that resulted from coordination with Canada under the U.S.-Canada Regulatory Cooperation Council.

This rulemaking action is part of our ongoing biennial process to harmonize the HMR with international regulations and standards. Federal law and policy strongly favor the harmonization of domestic and international standards for hazardous materials transportation. The Federal hazardous materials transportation law (Federal hazmat law; 49 U.S.C. 5101 et seq.) directs PHMSA to participate in relevant international standard-setting bodies and promotes consistency of the HMR with international transport standards to the extent practicable. Federal hazmat law permits PHMSA to depart from international standards where appropriate, including to promote safety or other overriding public interests. However, Federal hazmat law otherwise encourages domestic and international harmonization (see 49 U.S.C. 5120).

Harmonization facilitates international trade by minimizing the costs and other burdens of complying with multiple or inconsistent safety requirements for transportation of hazardous materials. Safety is enhanced by creating a uniform framework for compliance, and as the volume of hazardous materials transported in international commerce continues to grow, harmonization becomes increasingly important.

The impact that it will have on small entities is not expected to be significant. The final rule clarified provisions based on PHMSA's initiatives and correspondence with the regulated community and domestic and international stakeholders. The changes are generally intended to provide relief and, as a result, marginal positive economic benefits to shippers, carriers, and packaging manufacturers and testers, including small entities. These benefits are not at a level that can be considered economically significant. Consequently, this final rule will not have a significant economic impact on a substantial number of small entities. PHMSA's plain language review of this rule indicates no need for substantial revision.

49 CFR part 193—Liquefied Natural Gas Facilities: Federal Safety Standards

• Section 610: There is no SEISNOSE.

• General: This rule prescribes safety standards for LNG facilities used in the transportation of gas by pipeline that is subject to the pipeline safety laws (49 U.S.C. 60101 et seq.) and Part 192. PHMSA's plain language review of this rule indicates no need for substantial revision.

Year 10 (Fall 2018) List of Rules That Will Be Analyzed During the Next Year

49 CFR part 173—Shippers—General Requirements for Shipments and Packaging

49 CFR part 194—Response Plans for Onshore Oil Pipelines

Saint Lawrence Seaway Development Corporation

Section 610 and Other Reviews

Year | Regulations to be reviewed | Analysis year | Review year
1 | 33 CFR parts 401 through 403 | 2008 | 2009

Year 1 (Fall 2008) List of Rules With Ongoing Analysis

33 CFR part 401—Seaway Regulations and Rules

33 CFR part 402—Tariff of Tolls

33 CFR part 403—Rules of Procedure of the Joint Tolls Review Board

Office of the Secretary—Proposed Rule Stage
Sequence No. | Title | Regulation Identifier No.
150 | +Defining Unfair or Deceptive Practices | 2105-AE72
+ DOT-designated significant regulation.

Federal Aviation Administration—Prerule Stage
Sequence No. | Title | Regulation Identifier No.
151 | +Applying the Flight, Duty, and Rest Rules of 14 CFR Part 135 to Tail-End Ferry Operations (FAA Reauthorization) | 2120-AK26
+ DOT-designated significant regulation.

Federal Aviation Administration—Proposed Rule Stage
Sequence No. | Title | Regulation Identifier No.
152 | Drug and Alcohol Testing of Certain Maintenance Provider Employees Located Outside of the United States | 2120-AK09
153 | +Applying the Flight, Duty, and Rest Requirements to Ferry Flights That Follow Domestic, Flag, or Supplemental All-Cargo Operations (Reauthorization) | 2120-AK22
154 | +Pilot Records Database (HR 5900) | 2120-AK31
155 | +Aircraft Registration and Airmen Certification Fees | 2120-AK37
156 | +Requirements to File Notice of Construction of Meteorological Evaluation Towers and Other Renewable Energy Projects (Section 610 Review) | 2120-AK77
157 | +Operations of Small Unmanned Aircraft Over People | 2120-AK85
+ DOT-designated significant regulation.

Federal Aviation Administration—Final Rule Stage
Sequence No. | Title | Regulation Identifier No.
158 | +Airport Safety Management System | 2120-AJ38
159 | Updates to Rulemaking and Waiver Procedures and Expansion of the Equivalent Level of Safety Option (Section 610 Review) | 2120-AK76
160 | +Registration and Marking Requirements for Small Unmanned Aircraft | 2120-AK82
+ DOT-designated significant regulation.

Federal Aviation Administration—Long-Term Actions
Sequence No. | Title | Regulation Identifier No.
161 | +Regulation Of Flight Operations Conducted By Alaska Guide Pilots | 2120-AJ78
162 | +Helicopter Air Ambulance Pilot Training and Operational Requirements (HAA II) (FAA Reauthorization) | 2120-AK57
+ DOT-designated significant regulation.

Federal Motor Carrier Safety Administration—Proposed Rule Stage
Sequence No. | Title | Regulation Identifier No.
163 | Motorcoach Lap/Shoulder Seat Belts (Section 610 Review) | 2126-AC08
164 | Controlled Substances And Alcohol Testing: State Driver's Licensing Agency Downgrade of Commercial Driver's License (Section 610 Review) | 2126-AC11

Federal Motor Carrier Safety Administration—Final Rule Stage
Sequence No. | Title | Regulation Identifier No.
165 | Commercial Learner's Permit Validity (Section 610 Review) | 2126-AB98
166 | Incorporation by Reference; North American Standard Out-of-Service Criteria; Hazardous Materials Safety Permits (Section 610 Review) | 2126-AC01

Federal Motor Carrier Safety Administration—Long-Term Actions
Sequence No. | Title | Regulation Identifier No.
167 | +Safety Monitoring System and Compliance Initiative for Mexico-Domiciled Motor Carriers Operating in the United States | 2126-AA35
+ DOT-designated significant regulation.

Federal Railroad Administration—Final Rule Stage
Sequence No. | Title | Regulation Identifier No.
168 | +Passenger Equipment Safety Standards Amendments (RRTF) | 2130-AC46
+ DOT-designated significant regulation.

Federal Railroad Administration—Long-Term Actions
Sequence No. | Title | Regulation Identifier No.
169 | +Train Crew Staffing and Location | 2130-AC48
+ DOT-designated significant regulation.

Saint Lawrence Seaway Development Corporation—Completed Actions
Sequence No. | Title | Regulation Identifier No.
170 | Seaway Regulations and Rules: Periodic Update, Various Categories (Completion of a Section 610 Review) | 2135-AA43
171 | Tariff of Tolls (Completion of a Section 610 Review) | 2135-AA44

Pipeline and Hazardous Materials Safety Administration—Proposed Rule Stage
Sequence No. | Title | Regulation Identifier No.
172 | +Pipeline Safety: Amendments to Parts 192 and 195 to Require Valve Installation and Minimum Rupture Detection Standards | 2137-AF06
+ DOT-designated significant regulation.

Pipeline and Hazardous Materials Safety Administration—Final Rule Stage
Sequence No. | Title | Regulation Identifier No.
173 | +Pipeline Safety: Safety of Hazardous Liquid Pipelines | 2137-AE66
174 | +Pipeline Safety: Issues Related to the Use of Plastic Pipe in Gas Pipeline Industry | 2137-AE93
175 | +Hazardous Materials: Oil Spill Response Plans and Information Sharing for High-Hazard Flammable Trains | 2137-AF08
+ DOT-designated significant regulation.

DEPARTMENT OF TRANSPORTATION (DOT)

Office of the Secretary (OST)

Proposed Rule Stage

150. • +Defining Unfair or Deceptive Practices

E.O. 13771 Designation: Other.

Legal Authority: 49 U.S.C. 41712

Abstract: This rulemaking would define the phrase “unfair or deceptive practice” found in the Department's aviation consumer protection statute. The Department's statute is modeled after a similar statute granting the Federal Trade Commission (FTC) the authority to regulate unfair or deceptive practices. Using the FTC's policy statements as a guide, the Department has found a practice to be unfair if it causes or is likely to cause substantial harm, the harm cannot reasonably be avoided, and the harm is not outweighed by any countervailing benefits to consumers or to competition. Likewise, the Department has found a practice to be deceptive if it misleads or is likely to mislead a consumer acting reasonably under the circumstances with respect to a material issue (one that is likely to affect the consumer's decision with regard to a product or service). This rulemaking would codify the Department's existing interpretation of “unfair or deceptive practice,” and seek comment on any whether changes are needed. The rulemaking is not expected to impose monetary costs, and will benefit regulated entities by providing a clearer understanding of the Department's interpretation of the statute.

Timetable:

Action | Date | FR Cite
NPRM | 03/00/19

Regulatory Flexibility Analysis Required: Yes.

Agency Contact: Blaine A. Workie, Assistant General Counsel, Department of Transportation, Office of the Secretary, 1200 New Jersey Avenue SE, Washington, DC 20590, Phone: 202 366-9342, Fax: 202 366-7153, Email: blane.workie@dot.gov.

RIN: 2105-AE72

BILLING CODE 4910-9X-P

DEPARTMENT OF TRANSPORTATION (DOT)

Federal Aviation Administration (FAA)

Prerule Stage

151. +Applying the Flight, Duty, and Rest Rules of 14 CFR Part 135 to Tail-End Ferry Operations (FAA Reauthorization)

E.O. 13771 Designation: Regulatory.

Legal Authority: 49 U.S.C. 106(g); 49 U.S.C. 1153; 49 U.S.C. 40101 and 40102; 49 U.S.C. 40103; 49 U.S.C. 40113; 49 U.S.C. 41706; 49 U.S.C. 44105 and 44016; 49 U.S.C. 44111; 49 U.S.C. 44701 to 44717; 49 U.S.C. 44722; 49 U.S.C. 44901; 49 U.S.C. 44903 and 44904; 49 U.S.C. 44906; 49 U.S.C. 44912; 49 U.S.C. 44914; 49 U.S.C. 44936; 49 U.S.C. 44938; 49 U.S.C. 45101 to 45105; 49 U.S.C. 46103

Abstract: This rulemaking would solicit information related to a congressional mandate to require a flightcrew member who is employed by an air carrier conducting operations under part 135, and who accepts an additional assignment for flying under part 91 from the air carrier or from any other air carrier conducting operations under part 121 or 135, to apply the period of the additional assignment toward any limitation applicable to the flightcrew member relating to duty periods or flight times under part 135.

Timetable:

Action | Date | FR Cite
ANPRM | 09/00/18

Regulatory Flexibility Analysis Required: Yes.

Agency Contact: Dale Roberts, Department of Transportation, Federal Aviation Administration, 800 Independence Ave. SW, Washington, DC 20591, Phone: 202-267-5749, Email: dale.roberts@faa.gov.

RIN: 2120-AK26

DEPARTMENT OF TRANSPORTATION (DOT)

Federal Aviation Administration (FAA)

Proposed Rule Stage

152. Drug and Alcohol Testing of Certain Maintenance Provider Employees Located Outside of the United States

E.O. 13771 Designation: Not subject to, not significant.

Legal Authority: 49 U.S.C. 106(g); 49 U.S.C. 40113; 49 U.S.C. 44701; 49 U.S.C. 44702; 49 U.S.C. 44707; 49 U.S.C. 44709; 49 U.S.C. 44717

Abstract: This rulemaking would require controlled substance testing of some employees working in repair stations located outside the United States. The intended effect is to increase participation by companies outside of the United States in testing of employees who perform safety critical functions and testing standards similar to those used in the repair stations located in the United States. This action is necessary to increase the level of safety of the flying public. This rulemaking is a statutory mandate under section 308(d) of the FAA Modernization and Reform Act of 2012 (Pub. L. 112-95).

Timetable:

Action | Date | FR Cite
ANPRM | 03/17/14 | 79 FR 14621
Comment Period Extended | 05/01/14 | 79 FR 24631
ANPRM Comment Period End | 05/16/14
Comment Period End | 07/17/14
NPRM | 05/00/18

Regulatory Flexibility Analysis Required: Yes.

Agency Contact: Vicky Dunne, Department of Transportation, Federal Aviation Administration, 800 Independence Ave. SW, Washington, DC 20591, Phone: 202-267-8522, Email: vicky.dunne@faa.gov.

RIN: 2120-AK09

153. +Applying the Flight, Duty, and Rest Requirements to Ferry Flights That Follow Domestic, Flag, or Supplemental All-Cargo Operations (Reauthorization)

E.O. 13771 Designation: Regulatory.

Legal Authority: 49 U.S.C. 106(g); 49 U.S.C. 40113; 49 U.S.C. 40119; 49 U.S.C. 41706; 49 U.S.C. 44101; 49 U.S.C. 44701; 49 U.S.C. 44702; 49 U.S.C. 44705; 49 U.S.C. 44709 to 44711; 49 U.S.C. 44713; 49 U.S.C. 44716; 49 U.S.C. 44717

Abstract: This rulemaking would require a flightcrew member who accepts an additional assignment for flying under part 91 from the air carrier or from any other air carrier conducting operations under part 121 or 135 of such title, to apply the period of the additional assignment toward any limitation applicable to the flightcrew member relating to duty periods or flight times. This rule is necessary as it will make part 121 flight, duty, and rest limits applicable to tail end ferries that follow an all cargo operation.

Timetable:

Action | Date | FR Cite
NPRM | 05/00/18

Regulatory Flexibility Analysis Required: Yes.

Agency Contact: Dale Roberts, Department of Transportation, Federal Aviation Administration, 800 Independence Ave. SW, Washington, DC 20591, Phone: 202-267-5749, Email: dale.roberts@faa.gov.

RIN: 2120-AK22

154. +Pilot Records Database (HR 5900)

E.O. 13771 Designation: Regulatory.

Legal Authority: 49 U.S.C. 106(g); 49 U.S.C. 1155; 49 U.S.C. 40103; 49 U.S.C. 40113; 49 U.S.C. 40119 and 40120; 49 U.S.C. 41706; 49 U.S.C. 44101; 49 U.S.C. 44111; 49 U.S.C. 44701 to 44705; 49 U.S.C. 44709 to 44713; 49 U.S.C. 44715 to 44717; 49 U.S.C. 44722; 49 U.S.C. 45101 to 45105; 49 U.S.C. 46105; 49 U.S.C. 46306; 49 U.S.C. 46315 and 46316; 49 U.S.C. 46504; 49 U.S.C. 46507; 49 U.S.C. 47122; 49 U.S.C. 47508; 49 U.S.C. 47528 to 47531

Abstract: This rulemaking would implement a Pilot Records Database as required by Public Law 111-216 (Aug. 1, 2010). Section 203 amends the Pilot Records Improvement Act by requiring the FAA to create a pilot records database that contains various types of pilot records. These records would be provided by the FAA, air carriers, and other persons who employ pilots. The FAA must maintain these records until it receives notice that a pilot is deceased. Air carriers would use this database to perform a record check on a pilot prior to making a hiring decision.

Timetable:

Action | Date | FR Cite
NPRM | 05/00/18

Regulatory Flexibility Analysis Required: Yes.

Agency Contact: Christopher Morris, Department of Transportation, Federal Aviation Administration, 6500 S MacArthur Blvd., Oklahoma City, OK 73169, Phone: 405-954-4646, Email: christopher.morris@faa.gov.

RIN: 2120-AK31

155. +Aircraft Registration and Airmen Certification Fees

E.O. 13771 Designation: Other.

Legal Authority: 31 U.S.C. 9701; 4 U.S.C. 1830; 49 U.S.C. 106(f) and (g); 49 U.S.C. 106(l)(6); 49 U.S.C. 40104; 49 U.S.C. 40105; 49 U.S.C. 40109; 49 U.S.C. 40113; 49 U.S.C. 40114; 49 U.S.C. 44101 to 44108; 49 U.S.C. 44110 to 44113; 49 U.S.C. 44701 to 44704; 49 U.S.C. 44707; 49 U.S.C. 44709 to 44711; 49 U.S.C. 44713; 49 U.S.C. 45102; 49 U.S.C. 45103; 49 U.S.C. 45301; 49 U.S.C. 45302; 49 U.S.C. 45305; 49 U.S.C. 46104; 49 U.S.C. 46301; Public Law 108-297, 118 Stat. 1095

Abstract: This rulemaking would establish fees for airman certificates, medical certificates, and provision of legal opinions pertaining to aircraft registration or recordation. This rulemaking also would revise existing fees for aircraft registration, recording of security interests in aircraft or aircraft parts, and replacement of an airman certificate. This rulemaking addresses provisions of the FAA Modernization and Reform Act of 2012. This rulemaking is intended to recover the estimated costs of the various services and activities for which fees would be established or revised.

Timetable:

Action | Date | FR Cite
NPRM | 07/00/18

Regulatory Flexibility Analysis Required: Yes.

Agency Contact: Isra Raza, Department of Transportation, Federal Aviation Administration, 800 Independence Ave. SW, Washington, DC 20591, Phone: 202-267-8994, Email: isra.raza@faa.gov.

RIN: 2120-AK37

156. +Requirements To File Notice of Construction of Meteorological Evaluation Towers and Other Renewable Energy Projects (Section 610 Review)

E.O. 13771 Designation: Regulatory.

Legal Authority: 49 U.S.C. 40103

Abstract: This rulemaking would add specific requirements for proponents who wish to construct meteorological evaluation towers at a height of 50 feet above ground level (AGL) up to 200 feet AGL to file notice of construction with the FAA. This rule also requires sponsors of wind turbines to provide certain specific data when filing notice of construction with the FAA. This rulemaking is a statutory mandate under section 2110 of the FAA Extension, Safety, and Security Act of 2016 (Pub. L. 114-190).

Timetable:

Action | Date | FR Cite
NPRM | 02/00/19

Regulatory Flexibility Analysis Required: No.

Agency Contact: Sheri Edgett-Baron, Air Traffic Service, Department of Transportation, Federal Aviation Administration, 800 Independence Avenue SW, Washington, DC 20591, Phone: 202 267-9354.

RIN: 2120-AK77

157. +Operations of Small Unmanned Aircraft Over People

E.O. 13771 Designation: Deregulatory.

Legal Authority: 49 U.S.C. 106(f); 49 U.S.C. 40101; 49 U.S.C. 40103(b); 49 U.S.C. 44701(a)(5); Pub. L. 112-95, sec. 333

Abstract: This rulemaking would address the performance-based standards and means-of-compliance for operation of small unmanned aircraft systems (UAS) over people not directly participating in the operation or not under a covered structure or inside a stationary vehicle that can provide reasonable protection from a falling small unmanned aircraft. This rule would provide relief from certain operational restrictions implemented in the Operation and Certification of Small Unmanned Aircraft Systems final rule (RIN 2120-AJ60).

Timetable:

Action | Date | FR Cite
NPRM | 06/00/18 |

Regulatory Flexibility Analysis Required: Yes.

Agency Contact: Guido Hassig, Department of Transportation, Federal Aviation Administration, 1 Airport Way, Rochester, NY 14624, Phone: 585-436-3880, Email: guido.hassig@faa.gov.

RIN: 2120-AK85

DEPARTMENT OF TRANSPORTATION (DOT)

Federal Aviation Administration (FAA)

Final Rule Stage

158. +Airport Safety Management System

E.O. 13771 Designation: Regulatory.

Legal Authority: 49 U.S.C. 44706; 49 U.S.C. 106(g); 49 U.S.C. 40113; 49 U.S.C. 44701 to 44706; 49 U.S.C. 44709; 49 U.S.C. 44719

Abstract: This rulemaking would require certain airport certificate holders to develop, implement, maintain, and adhere to a safety management system (SMS) for its aviation-related activities. An SMS is a formalized approach to managing safety by developing an organization-wide safety policy, developing formal methods of identifying hazards, analyzing and mitigating risk, developing methods for ensuring continuous safety improvement, and creating organization-wide safety promotion strategies.

Timetable:

Action | Date | FR Cite
NPRM | 10/07/10 | 75 FR 62008
NPRM Comment Period Extended | 12/10/10 | 75 FR 76928
NPRM Comment Period End | 01/05/11 |
End of Extended Comment Period | 03/07/11 |
Second Extension of Comment Period | 03/07/11 | 76 FR 12300
End of Second Extended Comment Period | 07/05/11 |
Second NPRM | 07/14/16 | 81 FR 45871
Second NPRM Comment Period End | 09/12/16 |
Final Rule | 09/00/18 |

Regulatory Flexibility Analysis Required: Yes.

Agency Contact: Keri Lyons, Department of Transportation, Federal Aviation Administration, 800 Independence Ave. SW, Washington, DC 20591, Phone: 202-267-8972, Email: keri.lyons@faa.gov.

RIN: 2120-AJ38

159. Updates to Rulemaking and Waiver Procedures and Expansion of the Equivalent Level of Safety Option (Section 610 Review)

E.O. 13771 Designation: Deregulatory.

Legal Authority: 51 U.S.C. 50901; 51 U.S.C. 50903 and 50904; 51 U.S.C. 50905

Abstract: This rulemaking would streamline and improve commercial space transportation's general rulemaking and petition procedures by reflecting current practice; reorganizing the regulations for clarity and flow; and allowing petitioners to file their petitions electronically. This action would expand the option to satisfy commercial space transportation requirements by demonstrating an equivalent level of safety. These changes are necessary to ensure the regulations are current, accurate, and not unnecessarily burdensome. The intended effect of these changes is to improve the clarity of the regulations and reduce burden on the industry and the FAA.

Timetable:

Action | Date | FR Cite
NPRM | 06/01/16 | 81 FR 34919
NPRM Comment Period End | 08/01/16 |
Final Rule | 05/00/18 |

Regulatory Flexibility Analysis Required: No.

Agency Contact: Joshua Easterson, Department of Transportation, Federal Aviation Administration, 800 Independence Ave. SW, Washington, DC 20591, Phone: 202-267-5150, Email: joshua.easterson@faa.gov.

RIN: 2120-AK76

160. +Registration and Marking Requirements or Small Unmanned Aircraft

E.O. 13771 Designation: Regulatory.

Legal Authority: 49 U.S.C. 106(f), 49 U.S.C. 41703, 44101 to 44106, 44110 to 44113, and 44701

Abstract: This rulemaking would provide an alternative, streamlined, and simple web-based aircraft registration process for the registration of small unmanned aircraft, including small unmanned aircraft operated as model aircraft, to facilitate compliance with the statutory requirement that all aircraft register prior to operation. It would also provide a simpler method for marking small unmanned aircraft that is more appropriate for these aircraft. This action responds to public comments received regarding the proposed registration process in the Operation and Certification of Small Unmanned Aircraft notice of proposed rulemaking, the request for information regarding unmanned aircraft system registration, and the recommendations from the Unmanned Aircraft System Registration Task Force.

Timetable:

Action | Date | FR Cite
Interim Final Rule | 12/16/15 | 80 FR 78593
Interim Final Rule Effective | 12/21/15 |
OMB Approval of Information Collection | 12/21/15 | 80 FR 79255
Interim Final Rule Comment Period End | 01/15/16 |
Final Rule | 12/00/18 |

Regulatory Flexibility Analysis Required: Yes.

Agency Contact: Sara Mikolop, Department of Transportation, Federal Aviation Administration, 800 Independence Ave. SW, Washington, DC 20591, Phone: 202-267-7776, Email: sara.mikolop@faa.gov.

RIN: 2120-AK82

DEPARTMENT OF TRANSPORTATION (DOT)

Federal Aviation Administration (FAA)

Long-Term Actions

161. +Regulation of Flight Operations Conducted by Alaska Guide Pilots

E.O. 13771 Designation: Regulatory.

Legal Authority: 49 U.S.C. 106(g) ; 49 U.S.C. 1153; 49 U.S.C. 1155; 49 U.S.C. 40101 to 40103; 49 U.S.C. 40113; 49 U.S.C. 40120; 49 U.S.C. 44101; 49 U.S.C. 44105 and 44016; 49 U.S.C. 44111; 49 U.S.C. 44701 to 44717; 49 U.S.C. 44722; 49 U.S.C. 44901; 49 U.S.C. 44903 and 44904; 49 U.S.C. 44906; 49 U.S.C. 44912; 49 U.S.C. 44914; 49 U.S.C. 44936; 49 U.S.C. 44938; 49 U.S.C. 46103; 49 U.S.C. 46105; 49 U.S.C. 46306; 49 U.S.C. 46315 and 46316; 49 U.S.C. 46504; 49 U.S.C. 46506 and 46507; 49 U.S.C. 47122; 49 U.S.C. 47508; 49 U.S.C. 47528 to 47531; Articles 12 and 29 of 61 Statue 1180; Pub. L. 106-181, sec. 732

Abstract: The rulemaking would establish regulations concerning Alaska guide pilot operations. The rulemaking would implement Congressional legislation and establish additional safety requirements for the conduct of these operations. The intended effect of this rulemaking is to enhance the level of safety for persons and property transported in Alaska guide pilot operations. In addition, the rulemaking would add a general provision applicable to pilots operating under the general operating and flight rules concerning falsification, reproduction, and alteration of applications, logbooks, reports, or records. This rulemaking is a statutory mandate under section 732 of the Wendell H. Ford Aviation Investment and Reform Act for the 21st Century (Pub. L. 106-181).

Timetable: Next Action Undetermined.

Regulatory Flexibility Analysis Required: Yes.

Agency Contact: Jeff Smith, Department of Transportation, Federal Aviation Administration, 800 Independence Avenue SW, Washington, DC 20785, Phone: 202 385-9615, Email: jeffrey.smith@faa.gov.

RIN: 2120-AJ78

162. +Helicopter Air Ambulance Pilot Training and Operational Requirements (HAA II) (FAA Reauthorization)

E.O. 13771 Designation: Regulatory.

Legal Authority: 49 U.S.C. 106(f) and (g); 49 U.S.C. 40113; 49 U.S.C. 41706; 49 U.S.C. 44701 and 44702; 49 U.S.C. 44705; 49 U.S.C. 44709; 49 U.S.C. 44711 to 44713; 49 U.S.C. 44715 to 44717; 49 U.S.C. 44722; 49 U.S.C. 44730; 49 U.S.C. 45101 to 45105

Abstract: This rulemaking would develop training requirements for crew resource management, flight risk evaluation, and operational control of the pilot in command, as well as develop standards for the use of flight simulation training devices and line-oriented flight training. Additionally, it would establish requirements for the use of safety equipment for flight crewmembers and flight nurses. These changes will aide in the increase in aviation safety and increase survivability in the event of an accident. Without these changes, the Helicopter Air Ambulance industry may continue to see an unacceptable high rate of aircraft accidents. This rulemaking is a statutory mandate under section 306(e) of the FAA Modernization and Reform Act of 2012 (Pub. L. 112-95).

Timetable: Next Action Undetermined.

Regulatory Flexibility Analysis Required: Yes.

Agency Contact: Chris Holliday, Department of Transportation, Federal Aviation Administration, 801 Pennsylvania Ave. NW, Washington, DC 20024, Phone: 202-267-4552, Email: chris.holliday@faa.gov.

RIN: 2120-AK57

BILLING CODE 4910-13-P

DEPARTMENT OF TRANSPORTATION (DOT)

Federal Motor Carrier Safety Administration (FMCSA)

Proposed Rule Stage

163. Motorcoach Lap/Shoulder Seat Belts (Section 610 Review)

E.O. 13771 Designation: Other.

Legal Authority: Not Yet Determined

Abstract: The Federal Motor Carrier Safety Administration proposes to amend the Federal Motor Carrier Safety Regulations to require all over-the-road buses manufactured on or after November 28, 2016, and other buses with a gross vehicle weight rating greater than 26,000 pounds and manufactured during the same timeframe to be equipped with lap/shoulder seat belts in accordance with Federal Motor Vehicle Safety Standard No. 208 accommodating each passenger seating position, with certain exclusions. This rule will be a companion rule to the final rule published by the National Highway Traffic Safety Administration's final rule published in November 2013.

Timetable:

Action | Date | FR Cite
NPRM | 05/00/18 |

Regulatory Flexibility Analysis Required: No.

Agency Contact: Larry W. Minor, Director, Office of Bus and Truck Standards and Operations, Department of Transportation, Federal Motor Carrier Safety Administration, 1200 New Jersey Avenue SE, Washington, DC 20590, Phone: 202 366-4009, Email: larry.minor@dot.gov.

RIN: 2126-AC08

164. Controlled Substances and Alcohol Testing: State Driver's Licensing Agency Downgrade of Commercial Driver's License (Section 610 Review)

E.O. 13771 Designation: Other.

Legal Authority: 49 U.S.C. 31136(a); 49 U.S.C. 31305(a)

Abstract: The Commercial Driver's License Drug and Alcohol Clearinghouse (Clearinghouse) final rule (81 FR 87686, Dec. 5, 2016), requires State Driver Licensing Agencies (SDLAs) to check the Clearinghouse before issuing, renewing, transferring, or upgrading a Commercial Driver's License (CDL) to determine whether the driver is qualified to operate a commercial motor vehicle. FMCSA proposes to amend the Clearinghouse final rule to require SDLAs to downgrade the CDL of any driver for whom a verified positive controlled substances (drug) test result, an alcohol confirmation test with a concentration of .04 or higher, a refusal to submit to a drug or alcohol test, or an employer's actual knowledge of prohibited drug or alcohol use is reported to the Clearinghouse. Under this NPRM, the CDL downgrade, currently defined in 49 CFR 383.5 as the removal of the CDL privilege from the driver's license, will remain in effect until the driver complies with return to duty requirements set forth in 49 CFR part 40, subpart O. SDLAs will have electronic access to relevant information in the CDL holder's Clearinghouse record through the Commercial Driver's License Information System (CDLIS), which will enable them to initiate the downgrade process and to restore the CDL privilege to the driver's license upon his or her completion of return to duty requirements. This proposal is intended to improve highway safety by establishing a means to enforce the existing requirement that CDL holders who test positive or refuse to test, or engage in other drug and alcohol program violations, must not perform safety-sensitive functions, including driving a commercial motor vehicle in intrastate or interstate commerce. This NPRM does not propose any other changes to the Clearinghouse final rule, nor does it propose any changes to the drug and alcohol testing requirements in part 382 and part 40.

Timetable:

Action | Date | FR Cite
NPRM | 09/00/18 |

Regulatory Flexibility Analysis Required: No.

Agency Contact: Juan Moya, Department of Transportation, Federal Motor Carrier Safety Administration, 1200 New Jersey Ave. SE, Washington, DC 20590, Phone: 202-366-4844, Email: Juan.Moya@dot.gov.

RIN: 2126-AC11

DEPARTMENT OF TRANSPORTATION (DOT)

Federal Motor Carrier Safety Administration (FMCSA)

Final Rule Stage

165. Commercial Learner's Permit Validity (Section 610 Review)

E.O. 13771 Designation: Deregulatory.

Legal Authority: 49 U.S.C. 31305; 49 U.S.C. 31308

Abstract: This rulemaking would amend Commercial Driver's License (CDL) regulations to allow a commercial learner's permit to be issued for 1 year, without renewal, rather than for no more than 180 days with an additional 180 day renewal. This change would reduce costs to CDL applicants who are unable to complete the required training and testing within the current validity period, with no expected negative safety benefits.

Timetable:

Action | Date | FR Cite
NPRM | 06/12/17 | 82 FR 26888
NPRM Comment Period End | 08/11/17 |
Final Rule | 07/00/18 |

Regulatory Flexibility Analysis Required: No.

Agency Contact: Thomas Yager, Driver and Carrier Operations Division, Department of Transportation, Federal Motor Carrier Safety Administration, 1200 New Jersey Avenue SE, Washington, DC 20590, Phone: 202 366-4325, Email: tom.yager@dot.gov.

RIN: 2126-AB98

166. Incorporation by Reference; North American Standard Out-of-Service Criteria; Hazardous Materials Safety Permits (Section 610 Review)

E.O. 13771 Designation: Other.

Legal Authority: 49 U.S.C. 5105; 49 U.S.C. 5109

Abstract: This action will update an existing Incorporation by Reference (by the Commercial Vehicle Safety Alliance) of the North American Standard Out-of-Service Criteria and Level VI Inspection Procedures and Out-of-Service for Commercial Highway Vehicles Transporting Transuranics and Highway Route Controlled Quantities of Radioactive Materials as defined in 49 CFR part 173.403.

Timetable:

Action | Date | FR Cite
Final Rule | 11/00/18 |

Regulatory Flexibility Analysis Required: No.

Agency Contact: Stephanie Dunlap, Department of Transportation, Federal Motor Carrier Safety Administration, 1200 New Jersey Avenue SE, Washington, DC 20590, Phone: 202 366-3536, Email: stephanie.dunlap@dot.gov.

RIN: 2126-AC01

DEPARTMENT OF TRANSPORTATION (DOT)

Federal Motor Carrier Safety Administration (FMCSA)

Long-Term Actions

167. +Safety Monitoring System and Compliance Initiative for Mexico-Domiciled Motor Carriers Operating in the United States

E.O. 13771 Designation: Other.

Legal Authority: Pub. L. 107-87, sec. 350; 49 U.S.C. 113; 49 U.S.C. 31136; 49 U.S.C. 31144; 49 U.S.C. 31502; 49 U.S.C. 504; 49 U.S.C. 5113; 49 U.S.C. 521(b)(5)(A).

Abstract: This rule would implement a safety monitoring system and compliance initiative designed to evaluate the continuing safety fitness of all Mexico-domiciled carriers within 18 months after receiving a provisional Certificate of Registration or provisional authority to operate in the United States. It also would establish suspension and revocation procedures for provisional Certificates of Registration and operating authority, and incorporate criteria to be used by FMCSA in evaluating whether Mexico-domiciled carriers exercise basic safety management controls. The interim rule included requirements that were not proposed in the NPRM but which are necessary to comply with the FY-2002 DOT Appropriations Act. On January 16, 2003, the Ninth Circuit Court of Appeals remanded this rule, along with two other NAFTA-related rules, to the Agency, requiring a full environmental impact statement and an analysis required by the Clean Air Act. On June 7, 2004, the Supreme Court reversed the Ninth Circuit and remanded the case, holding that FMCSA is not required to prepare the environmental documents. FMCSA originally planned to publish a final rule by November 28, 2003.

Timetable:

Action | Date | FR Cite
NPRM | 05/03/01 | 66 FR 22415
NPRM Comment Period End | 07/02/01 |
Interim Final Rule | 03/19/02 | 67 FR 12758
Interim Final Rule Comment Period End | 04/18/02 |
Interim Final Rule Effective | 05/03/02 |
Notice of Intent To Prepare an EIS | 08/26/03 | 68 FR 51322
EIS Public Scoping Meetings | 10/08/03 | 68 FR 58162
Next Action Undetermined |  |

Regulatory Flexibility Analysis Required: Yes.

Agency Contact: Dolores Macias, Acting Division Chief, Department of Transportation, Federal Motor Carrier Safety Administration, 1200 New Jersey Ave. SE, Washington, DC 20590, Phone: 202 366-2995, Email: dolores.macias@dot.gov.

RIN: 2126-AA35

BILLING CODE 4910-EX-P

DEPARTMENT OF TRANSPORTATION (DOT)

Federal Railroad Administration (FRA)

Final Rule Stage

168. +Passenger Equipment Safety Standards Amendments (RRTF)

E.O. 13771 Designation: Deregulatory.

Legal Authority: 49 U.S.C. 20103

Abstract; This rulemaking would update existing safety standards for passenger rail equipment. Specifically, the rulemaking would add a new tier of passenger equipment safety standards (Tier III) to facilitate the safe implementation of nation-wide, interoperable, high-speed passenger rail service at speeds up to 220 mph. The Tier III standards require operations at speeds above 125 mph to be in an exclusive right-of-way without grade crossings. This rule would also establish crashworthiness and occupant protection performance requirements as an alternative to those currently specified for Tier I passenger trainsets. Additionally, the rule would increase from 150 mph to 160 mph the maximum speed for passenger equipment that complies with FRA's Tier II standards. The rule is expected to ease regulatory burdens, allow the development of advanced technology, and increase safety benefits.

Timetable:

Action | Date | FR Cite
NPRM | 12/06/16 | 81 FR 88006
NPRM Comment Period End | 02/06/17 |
Final Rule | 09/00/18 |

Regulatory Flexibility Analysis Required: Yes.

Agency Contact: Kathryn Gresham, Department of Transportation, Federal Railroad Administration, 1200 New Jersey Ave. SE, Washington, DC 20590, Phone: 202 493-6063, Email: kathyryn.gresham@dot.gov.

RIN: 2130-AC46

DEPARTMENT OF TRANSPORTATION (DOT)

Federal Railroad Administration (FRA)

Long-Term Actions

169. +Train Crew Staffing and Location

E.O. 13771 Designation: Regulatory.

Legal Authority: 28 U.S.C. 2461, note; 49 U.S.C. 20103; 49 U.S.C. 20107; 49 U.S.C. 21301 and 21302; 49 U.S.C. 21304

Abstract: This rule would establish requirements to appropriately address known safety risks posed by train operations that use fewer than two crewmembers. FRA is considering options based on public comments on the proposed rule and other information.

Timetable:

Action | Date | FR Cite
NPRM | 03/15/16 | 81 FR 13918
NPRM Comment Period End | 05/16/16
Next Action Undetermined

Regulatory Flexibility Analysis Required: Yes.

Agency Contact: Kathryn Gresham, Trial Attorney, Department of Transportation, Federal Railroad Administration, 1200 New Jersey Avenue SE, Washington, DC 20590, Phone: 202 493-6063, Email: kathryn.gresham@dot.gov.

RIN: 2130-AC48

BILLING CODE 4910-06-P

DEPARTMENT OF TRANSPORTATION (DOT)

Saint Lawrence Seaway Development Corporation (SLSDC)

Completed Actions

170. Seaway Regulations and Rules: Periodic Update, Various Categories (Completion of a Section 610 Review)

E.O. 13771 Designation: Not subject to, not significant.

Legal Authority: 33 U.S.C. 981 et seq.

Abstract: The Saint Lawrence Seaway Development Corporation (SLSDC) and the St. Lawrence Seaway Management Corporation (SLSMC) of Canada, under international agreement, jointly publish and presently administer the St. Lawrence Seaway Regulations and Rules (Practices and Procedures in Canada) in their respective jurisdictions. Under agreement with the SLSMC, the SLSDC is amending the joint regulations by updating the Seaway Regulations and Rules in various categories. These amendments are necessary to take account of updated procedures and will enhance the safety of transits through the Seaway.

Timetable:

Action | Date | FR Cite
Final Rule | 03/22/18 | 83 FR 12485
Final Rule Effective | 03/29/18 |

Regulatory Flexibility Analysis Required: No.

Agency Contact: Carrie Lavigne, Department of Transportation, Saint Lawrence Seaway Development Corporation, 1200 New Jersey Ave. SE, Washington, DC 20590, Phone: 315-764-3231, Email: Carrie.Mann@dot.gov.

RIN: 2135-AA43

171. Tariff of Tolls (Completion of a Section 610 Review)

E.O. 13771 Designation: Not subject to, not significant.

Legal Authority: 33 U.S.C. 981 et seq.

Abstract: The Saint Lawrence Seaway Development Corporation (SLSDC) and the St. Lawrence Seaway Management Corporation (SLSMC) of Canada, under international agreement, jointly publish and presently administer the St. Lawrence Seaway Tariff of Tolls in their respective jurisdictions. The Tariff sets forth the level of tolls assessed on all commodities and vessels transiting the facilities operated by the SLSDC and the SLSMC. The SLSDC is revising its regulations to reflect the fees and charges levied by the SLSMC in Canada starting in the 2018 navigations season.

Timetable:

Action | Date | FR Cite
Final Rule | 03/23/18 | 83 FR 12667
Final Rule Effective | 03/29/18 |

Regulatory Flexibility Analysis Required: No.

Agency Contact: Carrie Lavigne, Department of Transportation, Saint Lawrence Seaway Development Corporation, 1200 New Jersey Ave. SE, Washington, DC 20590, Phone: 315-764-3231, Email: Carrie.Mann@dot.gov.

RIN: 2135-AA44

BILLING CODE 4910-61-P

DEPARTMENT OF TRANSPORTATION (DOT)

Pipeline and Hazardous Materials Safety Administration (PHMSA)

Proposed Rule Stage

172. +Pipeline Safety: Amendments to Parts 192 and 195 To Require Valve Installation and Minimum Rupture Detection Standards

E.O. 13771 Designation: Regulatory.

Legal Authority: 49 U.S.C. 60101 et seq.

Abstract: PHMSA is proposing to revise the Pipeline Safety Regulations applicable to newly constructed or entirely replaced natural gas transmission and hazardous liquid pipelines to improve rupture mitigation and shorten pipeline segment isolation times in high consequence and select non-high consequence areas. The proposed rule defines certain pipeline events as “ruptures” and outlines certain performance standards related to rupture identification and pipeline segment isolation. PHMSA also proposes specific valve maintenance and inspection requirements, and 9-1-1 notification requirements to help operators achieve better rupture response and mitigation. These proposals address congressional mandates, incorporate recommendations from the National Transportation Safety Board, and are necessary to reduce the serious consequences of large-volume, uncontrolled releases of natural gas and hazardous liquids.

Timetable:

Action | Date | FR Cite
NPRM | 11/00/18

Regulatory Flexibility Analysis Required: Yes.

Agency Contact: Robert Jagger, Technical Writer, Department of Transportation, Pipeline and Hazardous Materials Safety Administration, 1200 New Jersey Avenue, Washington, DC 20590, Phone: 202-366-4595, Email: robert.jagger@dot.gov.

RIN: 2137-AF06

DEPARTMENT OF TRANSPORTATION (DOT)

Pipeline and Hazardous Materials Safety Administration (PHMSA)

Final Rule Stage

173. +Pipeline Safety: Safety of Hazardous Liquid Pipelines

E.O. 13771 Designation: Regulatory.

Legal Authority: 49 U.S.C. 60101 et seq.

Abstract: This rulemaking would amend the Pipeline Safety Regulations to improve protection of the public, property, and the environment by closing regulatory gaps where appropriate, and ensuring that operators are increasing the detection and remediation of unsafe conditions, and mitigating the adverse effects of hazardous liquid pipeline failures.

Timetable:

Action | Date | FR Cite
ANPRM | 10/18/10 | 75 FR 63774
Comment Period Extended | 01/04/11 | 76 FR 303
ANPRM Comment Period End | 01/18/11
Extended Comment Period End | 02/18/11
NPRM | 10/13/15 | 80 FR 61610
NPRM Comment Period End | 01/08/16
Final Rule | 09/00/18

Regulatory Flexibility Analysis Required: Yes.

Agency Contact: Cameron H. Satterthwaite, Transportation Regulations Specialist, Department of Transportation, Pipeline and Hazardous Materials Safety Administration, 1200 New Jersey Avenue SE, Washington, DC 20590, Phone: 202-366-8553, Email: cameron.satterthwaite@dot.gov.

RIN: 2137-AE66

174. +Pipeline Safety: Issues Related to the Use of Plastic Pipe in Gas Pipeline Industry

E.O. 13771 Designation: Deregulatory.

Legal Authority: 49 U.S.C. 60101 et seq.

Abstract: PHMSA is amending the Federal Pipeline Safety Regulations that govern the use of plastic piping systems in the transportation of natural and other gas. These amendments are necessary to enhance pipeline safety, adopt innovative technologies and best practices, and respond to petitions from stakeholders. The amendments include an increased design factor for polyethylene (PE) pipe, stronger mechanical fitting requirements, new and updated riser standards, new accepted uses of Polyamide-11 (PA-11) thermoplastic pipe, authorization to use Polyamide-12 (PA-12) thermoplastic pipe, and new or updated consensus standards for pipe, fittings, and other components.

Timetable:

Action | Date | FR Cite
NPRM | 05/21/15 | 80 FR 29263
NPRM Comment Period End | 07/31/15
Final Rule | 08/00/18

Regulatory Flexibility Analysis Required: Yes.

Agency Contact: Cameron H. Satterthwaite, Transportation Regulations Specialist, Department of Transportation, Pipeline and Hazardous Materials Safety Administration, 1200 New Jersey Avenue SE, Washington, DC 20590, Phone: 202-366-8553, Email: cameron.satterthwaite@dot.gov.

RIN: 2137-AE93

175. +Hazardous Materials: Oil Spill Response Plans and Information Sharing for High-Hazard Flammable Trains

E.O. 13771 Designation: Regulatory.

Legal Authority: 33 U.S.C. 1321; 49 U.S.C. 5101 et seq.

Abstract: This rulemaking would expand the applicability of comprehensive oil spill response plans (OSRP) based on thresholds of liquid petroleum oil that apply to an entire train. The rulemaking would also require railroads to share information about high-hazard flammable train operations with State and Tribal emergency response commissions to improve community preparedness in accordance with the Fixing America's Surface Transportation Act of 2015 (FAST Act). Finally, the rulemaking would incorporate by reference an initial boiling point test for flammable liquids for better consistency with the American National Standards Institute/American Petroleum Institute Recommend Practices 3000, “Classifying and Loading of Crude Oil into Rail Tank Cars,” First Edition, September 2014.

Timetable:

Action | Date | FR Cite
ANPRM | 08/01/14 | 79 FR 45079
ANPRM Comment Period End | 09/30/14
NPRM | 07/29/16 | 81 FR 50067
NPRM Comment Period End | 09/27/16
Final Rule | 09/00/18

Regulatory Flexibility Analysis Required: Yes.

Agency Contact: Victoria Lehman, Transportation Specialist, Department of Transportation, Pipeline and Hazardous Materials Safety Administration, 1200 New Jersey Ave. SE, Washington, DC 20590, Phone: 202-366-8553, Email: victoria.lehman@dot.gov.

RIN: 2137-AF08

[FR Doc. 2018-11270 Filed 6-8-18; 8:45 am]

BILLING CODE 4910-60-P